ENVIRONMENTAL PROTECTION AGENCY

40 CFR Part 60

[EPA-HQ-OAR-2009-0174; FRL-9919-60-OAR]

RIN 2060-AP63

Electronic Reporting and Recordkeeping Requirements for New Source Performance Standards

AGENCY: Environmental Protection Agency.

ACTION: Proposed rule; amendments.

SUMMARY: The Environmental Protection Agency (EPA) is proposing to revise the part 60 General Provisions and various new source performance standards (NSPS) subparts in our regulations to require affected facilities to submit specified air emissions data reports to the EPA electronically and to allow affected facilities to maintain electronic records of these reports.

The EPA believes that the electronic submittal of the reports addressed in this proposed rulemaking will increase the usefulness of the data contained in those reports, is in keeping with current trends in data availability, will further assist in the protection of public health and the environment and will ultimately result in less burden on the regulated community. Electronic submittal of the reports addressed in this proposed rulemaking will facilitate more accurate and timely development of numerous efforts, including regulation development, emissions factors, emissions inventories, trends analysis, regional and local scale air quality modeling, regulatory impact assessments and human exposure modeling.

DATES: Comments. Comments must be received on or before May 19, 2015. Under the Paperwork Reduction Act, comments on the information collection provisions must be received by the Office of Management and Budget (OMB) on or before May 19, 2015.

Public Hearing. If anyone contacts the EPA requesting a public hearing by March 25, 2015, the EPA will hold a public hearing on April 6, 2015 from 1:00 p.m. [Eastern Standard Time] to 5:00 p.m. [Eastern Standard Time] at the U.S. Environmental Protection Agency building located at 109 T.W. Alexander Drive, Research Park, NC 27711. If the EPA holds a public hearing, the EPA will keep the record of the hearing open for 30 days after completion of the hearing to provide an opportunity for submission of rebuttal and supplementary information.

ADDRESSES: Submit your comments, identified by Docket ID Number EPA-HQ-OAR-2009-0174, by one of the following methods:

• Federal eRulemaking Portal: http://www.regulations.gov. Follow the on-line instructions for submitting comments.

• Email: a-and-r-docket@epa.gov. Include Docket ID Number EPA-HQ-OAR-2009-0174 in the subject line of the message.

• Fax: (202) 566-9744. Attention Docket ID Number EPA-HQ-OAR-2009-0174.

• Mail: Environmental Protection Agency, EPA Docket Center (EPA/DC), Mailcode: 28221T, Attention Docket ID Number EPA-HQ-OAR-2009-0174, 1200 Pennsylvania Ave. NW., Washington, DC 20460. In addition, please mail a copy of your comments on the information collection provisions to the Office of Information and Regulatory Affairs, Office of Management and Budget (OMB), Attn: Desk Officer for EPA, 725 17th Street NW., Washington, DC 20503.

• Hand/Courier Delivery: Environmental Protection Agency, EPA Docket Center, Room 3334, EPA WJC West Building, 1301 Constitution Ave. NW., Washington, DC 20004, Attention Docket ID Number EPA-HQ-OAR-2009-0174. Such deliveries are only accepted during the Docket's normal hours of operation (8:30 a.m. to 4:30 p.m. on all federal government work days), and special arrangements should be made for deliveries of boxed information.

Instructions. Direct your comments to Docket ID Number EPA-HQ-OAR-2009-0174. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. (See section I.C. below for instructions on submitting information claimed as CBI.) The www.regulations.gov Web site is an “anonymous access” system, which means the EPA will not know your identity or contact information unless you provide it in the body of your comment. If you submit an electronic comment through www.regulations.gov, the EPA recommends that you include your name and other contact information in the body of your comment and with any disk or CD-ROM you submit. If the EPA cannot read your comment due to technical difficulties and cannot contact you for clarification, the EPA may not be able to consider your comment. If you send an email comment directly to the EPA without going through www.regulations.gov, your email address will be automatically captured and included as part of the comment that is placed in the public docket and made available on the Internet. Electronic files should avoid the use of special characters or any form of encryption and be free of any defects or viruses. For additional information about the EPA's public docket, visit the EPA Docket Center homepage at: www.epa.gov/epahome/dockets.htm.

Docket. The EPA has established a docket for this rulemaking under Docket ID Number EPA-HQ-OAR-2009-0174. All documents in the docket are listed in the www.regulations.gov index. Although listed in the index, some information is not publicly available, e.g., CBI or other information whose disclosure is restricted by statute. Certain other material, such as copyrighted material, is not placed on the Internet and will be publicly available only in hard copy. Publicly available docket materials are available either electronically in regulations.gov or in hard copy at the EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

Public Hearing. If requested by March 25, 2015, we will hold a public hearing on April 6, 2015, from 1:00 p.m. [Eastern Standard Time] to 5:00 p.m. [Eastern Standard Time] at the U.S. Environmental Protection Agency building located at 109 T.W. Alexander Drive, Research Park, NC 27711. Please contact Ms. Pamela Garrett of the Sector Policies and Programs Division via email at garrett.pamela@epa.gov or phone at (919) 541-7966 to request a hearing, register to speak at the hearing or to inquire as to whether or not a hearing will be held. The last day to pre-register in advance to speak at the hearing will be April 1, 2015. Additionally, requests to speak will be taken the day of the hearing at the hearing registration desk, although preferences on speaking times may not be able to be fulfilled. If you require the service of a translator or special accommodations such as audio description, we ask that you pre-register for the hearing, as we may not be able to arrange such accommodations without advance notice. The hearing will provide interested parties the opportunity to present data, views or arguments concerning the proposed rule. The EPA will make every effort to accommodate all speakers who arrive and register. Because this hearing is held at a U.S. government facility, individuals planning to attend the hearing should be prepared to show valid picture identification to the security staff in order to gain access to the meeting room. Please note that the REAL ID Act, passed by Congress in 2005, established new requirements for entering federal facilities. If your driver's license is issued by Alaska, American Samoa, Arizona, Kentucky, Louisiana, Maine, Massachusetts, Minnesota, Montana, New York, Oklahoma or the state of Washington, you must present an additional form of identification to enter the federal building. Acceptable alternative forms of identification include: Federal employee badges, passports, enhanced driver's licenses and military identification cards. In addition, you will need to obtain a property pass for any personal belongings you bring with you. Upon leaving the building, you will be required to return this property pass to the security desk. No large signs will be allowed in the building, cameras may only be used outside of the building and demonstrations will not be allowed on federal property for security reasons. The EPA may ask clarifying questions during the oral presentations, but will not respond to the presentations at that time. Written statements and supporting information submitted during the comment period will be considered with the same weight as oral comments and supporting information presented at the public hearing. Verbatim transcripts of the hearing and written statements will be included in the docket for the rulemaking. The EPA will make every effort to follow the schedule as closely as possible on the day of the hearing; however, please plan for the hearing to run either ahead of schedule or behind schedule. Again, a hearing will not be held on this rulemaking unless requested. A hearing needs to be requested by March 25, 2015.

FOR FURTHER INFORMATION CONTACT: Ms. Gerri Garwood, Measurement Policy Group (MPG), Sector Policies and Programs Division (D243-05), Office of Air Quality Planning and Standards, U.S. Environmental Protection Agency, Research Triangle Park, North Carolina 27711, telephone number: (919) 541-2406; fax number: (919) 541-1039; and email address: garwood.gerri@epa.gov.

SUPPLEMENTARY INFORMATION:

Preamble Acronyms and Abbreviations. Several acronyms and abbreviations are included in this preamble. To ease the reading of this preamble and for reference purposes, the following terms and acronyms are defined here:

AAPCA Association of Air Pollution Control Agencies

CAA Clean Air Act

CBI Confidential Business Information

CDX Central Data Exchange

CEDRI Compliance and Emissions Data Reporting Interface

CFR Code of Federal Regulations

CHIEF Clearinghouse for Inventories and Emissions Factors

CMS Continuous Monitoring System

COR Copy of Record

CROMERR Cross-Media Electronic Reporting Rule

EPA Environmental Protection Agency

ERT Electronic Reporting Tool

FR Federal Register

FRS Facility Registration System

ICR Information Collection Request

IPT Integrated Project Team

MPG Measurement Policy Group

NACAA National Association of Clean Air Agencies

NATA National Air Toxics Assessment

NEI National Emissions Inventory

NESCAUM Northeast States for Coordinated Air Use Management

NSPS New Source Performance Standards

NTTAA National Technology Transfer and Advancement Act

OAQPS Office of Air Quality Planning and Standards

OIRA Office of Information and Regulatory Affairs

OMB Office of Management and Budget

RATA Relative Accuracy Test Audit

RFA Regulatory Flexibility Act

SBA Small Business Administration

TRI Toxics Release Inventory

TSCA Toxic Substances Control Act

TTN Technology Transfer Network

UMRA Unfunded Mandates Reform Act

VCS Voluntary Consensus Standards

XML Extensible Markup Language

Organization of this Document. The information in this preamble is organized as follows:

I. General Information

A. Does this proposed action apply to me?

B. Where can I get a copy of this document and other related information?

C. What should I consider as I prepare my comments for the EPA?

II. Proposed Action

A. What are the current part 60 reporting and recordkeeping requirements?

B. What revisions are we proposing with this action?

C. What steps do you need to take to electronically submit reports to the EPA?

D. Recordkeeping

III. Rationale for Requiring the Electronic Submission of Specified Reports

A. Why is this proposed action needed?

B. Why is the EPA using a phased approach to implementing electronic reporting?

C. How does this proposed action affect permits?

IV. Air Agency Delegated Authority Impacts

V. Impacts of Proposed Amendments

VI. Tables

Table 1. 40 CFR Part 60 Subparts Unaffected or Excluded by Proposed Amendments

Table 2. 40 CFR Part 60 Subparts Affected by Proposed Amendments

Table 3. Test Methods Currently Supported in the ERT

Table 4. Summary of Cost Savings

VII. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution or Use

I. National Technology Transfer and Advancement Act

J. Executive Order 12898: Federal Actions To Address Environmental Justice in Minority Populations and Low-Income Populations

I. General Information

A. Does this proposed action apply to me?

Entities affected by this proposed rule include facilities in all industry groups that are subject to NSPS in part 60 of title 40 of the CFR that require submission of the reports addressed in this rulemaking.

B. Where can I get a copy of this document and other related information?

In addition to being available in the docket, an electronic copy of this proposed rule is available on the Internet through the Technology Transfer Network (TTN) Web site, a forum for information and technology exchange in various areas of air pollution control. Following signature by the EPA Administrator, the EPA will post a copy of this proposed rule at the following Web site: http://www.epa.gov/ttn/atw/eparules.html.

C. What should I consider as I prepare my comments for the EPA?

Submitting CBI. Do not submit CBI to the EPA through http://www.regulations.gov or email. Clearly mark the part or all of the information that you claim to be CBI. For CBI contained on a disk or CD-ROM that you mail to the EPA, mark the outside of the disk or CD-ROM as CBI and then identify electronically within the disk or CD-ROM the specific information that is claimed as CBI. In addition to one complete version of the comments that includes information claimed as CBI, you must submit a copy of the comments that does not contain the information claimed as CBI for inclusion in the public docket. If you submit a CD-ROM or disk that does not contain CBI, clearly mark the outside of the disk or CD-ROM as not containing CBI. Information not marked as CBI will be included in the public docket and the EPA's electronic public docket without prior notice. Information marked as CBI will not be disclosed except in accordance with the procedures set forth in 40 CFR part 2. Send or deliver information identified as CBI only to the following address: OAQPS Document Control Officer (C404-02), OAQPS, U.S. Environmental Protection Agency, Research Triangle Park, North Carolina 27711, Attention Docket ID Number EPA-HQ-OAR-2009-0174.

II. Proposed Action

A. What are the current part 60 reporting and recordkeeping requirements?

Section 111(b) of the Clean Air Act (CAA) directs the EPA to develop technology based standards which apply to specific categories of stationary sources. Additionally, section 129 of the CAA requires that the EPA establish performance standards for solid waste combustors under the CAA section 111 requirements. The CAA section 111 standards, or NSPS, apply to new, modified and reconstructed facilities in specific source categories, and they are codified in 40 CFR part 60. The NSPS typically include source category specific emissions standards and monitoring, reporting, recordkeeping and testing requirements. In addition, the General Provisions of 40 CFR part 60 (subpart A) include regulatory requirements that automatically apply to all NSPS unless a particular subpart contains specific requirements that replace or augment the General Provisions requirements. Under current part 60 requirements, most facilities must routinely keep records and submit air emissions data reports such as summary reports, excess emission reports, performance test reports and performance evaluation reports in paper format to the EPA and delegated state, local and tribal air agencies (air agencies).

B. What revisions are we proposing with this action?

This proposal would require you (the owner or operator or responsible official [as defined in 40 CFR 63.2]) to submit specified reports required under 40 CFR part 60 electronically to the EPA's Central Data Exchange (CDX) (http://www.epa.gov/cdx/), the point of entry for electronic environmental data submissions to the EPA, rather than submitting them in paper format. This proposed rule would not require you to submit any information that is not already required to be submitted under the current NSPS that are proposed to be revised by this rule nor would this rule change the way in which you submit these reports to your relevant air agency.

While the NSPS require several different types of reports, this proposed rule focuses on the submission of electronic reports to the EPA that provide direct measures of air emissions data such as summary reports, excess emission reports, performance test reports and performance evaluation reports. Later in this section, we provide further explanation of reports we are not proposing to include in this rule, although we may require electronic submittal of these reports at a later time. Again, we are not adding new reporting requirements; these reports are already required to be submitted in current 40 CFR part 60 regulations. The part 60 General Provisions specify the timing for submittal and content of the reports. The General Provisions' reporting and recordkeeping requirements apply to all NSPS without change unless a particular NSPS supplements or revises some or all of them to address source category specific needs.

Following is a brief summary of the basic air emissions data reports codified in the 40 CFR part 60 General Provisions that we have included in this proposed rule:

• Summary reports and/or excess emissions and monitoring systems performance reports (excess emission reports) are required by 40 CFR 60.7(c) of the General Provisions when an owner or operator is required to install a continuous monitoring system (CMS). The summary report form may be submitted in lieu of the excess emission report when the downtime and excess emissions durations are sufficiently low, meeting thresholds defined in 40 CFR 60.7(d). Section 60.7(d) of the General Provisions specifies the content required in a summary report, which consists of basic excess emissions data (excess emissions duration and causes) and CMS performance data (CMS downtime duration and causes) in summary form.

• Excess emission reports are required by 40 CFR 60.7(c) of the General Provisions if an owner or operator is required to install a CMS and (1) the total duration of excess emissions for the reporting period is 1 percent or greater of the total operating time for the reporting period, or (2) the total CMS downtime for the reporting period is 5 percent or greater of the total operating time for the reporting period. Section 60.7(c) specifies the content required, which consists of detailed excess emissions data (magnitude of excess emissions; identification of periods of excess emissions that occur during startups, shutdowns and malfunctions; cause of any malfunction; and the corrective action taken or preventive measures adopted) and CMS performance data (date and time identifying each period when the CMS was inoperative except for zero and span checks and the nature of the system repairs or adjustments).

• Performance test reports required by 40 CFR 60.8(a) of the General Provisions must be submitted after an owner or operator conducts a required performance test to demonstrate compliance with the emissions standard(s) and/or to establish control device operating parameters.

• Performance evaluation reports (also referred to as relative accuracy test audit [RATA] reports) required by 40 CFR 60.13(c) of the General Provisions must be submitted after an owner or operator conducts a required performance evaluation of a CMS to demonstrate the accuracy of the CMS.

Many NSPS require the submission of specific air emissions data reports that are similar to the summary reports and excess emission reports required under the 40 CFR part 60 General Provisions. Although similar in purpose and required content, they are called by different names (e.g., annual reports, semi-annual reports). The EPA reviewed each NSPS to ensure that we require these reports be submitted to the EPA electronically, since they provide essentially the same information as required by summary reports and excess emission reports.

The majority of NSPS are potentially affected by this proposed rulemaking either because the specified General Provisions requirements apply or because they are being individually amended by this proposed rulemaking. There are, however, some NSPS that are being excluded from this proposed rulemaking. For example, NSPS that do not require the submission of any of the air emissions data reports that are subject to the proposed electronic reporting are excluded from this proposed rulemaking. In addition, a few NSPS are being addressed under separate rulemakings that would require electronic reporting. See Table 1 (in section VI of this preamble) for subparts that are not being addressed in this proposed rulemaking.

In addition to the NSPS, 40 CFR part 60 includes several subparts that contain requirements for state emission guidelines. In addition to requiring the EPA to establish NSPS for new units, section 129 of the CAA also requires the agency to establish emission guidelines for existing units. Additionally, section 111(d) of the CAA requires the agency to establish emission guidelines for existing units for any pollutant for which air quality criteria have not been issued or which is not included on a list published under section 7408(a) of Title 42 of the U.S. Code or emitted from a source category which is regulated under CAA section 112, but to which a standard of performance would apply if such existing source were a new source.

Unlike NSPS, which are federal regulations that apply directly to new, modified or reconstructed sources, emission guidelines do not directly regulate sources. Instead, emission guidelines establish requirements for state plans, which are the vehicle by which states implement the emission guidelines.¹ Because air agencies have already submitted implementation plans for the majority of the emission guidelines, and it would be overly burdensome to require air agencies to revise and resubmit implementation plans solely to address electronic reporting, we are not proposing to revise the emission guidelines to require electronic reporting to the EPA at this time. In the future, when an emission guideline is opened for other revisions or a new emission guideline is proposed, we will address electronic reporting in those rulemakings.² Even though we are not updating the emission guidelines at this time, if an air agency has an approved plan that already incorporates electronic reporting and recordkeeping, it may be possible for the air agency to start implementing the requirements proposed in the NSPS for the emission guidelines, if the air agency wishes to do so. Air agencies may also choose to revise state plans to incorporate the electronic reporting and recordkeeping requirements proposed in the NSPS and submit the plans to the EPA for approval.

¹ See http://www.epa.gov/reg5oair/toxics/delegation/111d-129/.

² We also plan to address electronic reporting in the Federal Plans that implement the emission guidelines.

Table 2 (in section VI of this preamble) presents the subparts in 40 CFR part 60 that are affected by this proposed rulemaking. We note that not all affected NSPS are specifically amended in this proposed rulemaking. The NSPS that rely solely on the 40 CFR part 60 General Provisions are not being specifically amended, but are affected by this proposed rulemaking due to the amendments to the General Provisions. Table 1 presents the subparts in 40 CFR part 60 that are not affected by this proposed rulemaking and the reasons why they are unaffected. The support document in the docket to this proposed rule details the rationale for each of the proposed amendments to 40 CFR part 60.³

³ Support for the Proposed Revisions for the Electronic Reporting and Recordkeeping Requirements for New Source Performance Standards. December 11, 2014.

In reviewing each NSPS, we purposefully excluded air emissions data that we did not prioritize for reporting to the EPA electronically at this time. While information such as leak detection and repair program reports and individual parametric system performance monitoring data (e.g., temperature, pressure and flow rate) reports are useful air emissions data, we chose to focus on reports of air emissions data used by the EPA and other stakeholders to evaluate the emissions and performance of affected facilities for which we could develop the platform to provide user access to upload and review the reports by the time this proposed rule is finalized. In the future, we may propose to expand the number and type of air emissions reports that we collect electronically.

Some of the NSPS require owners and operators of affected facilities to submit the results of their performance tests and performance evaluations with their summary and other similar semi-annual or annual air emission reports. In instances where we are requiring owners and operators to submit the results of those performance tests and/or performance evaluations to the EPA's CDX, we have excluded the need to submit these results with the air emission reports because these reports will be readily available and searchable through the EPA's WebFIRE database. Instead, we have revised the applicable air emission report requirements to require identifying information (i.e., the process unit and pollutant tested) and the date of the applicable performance test and/or performance evaluation. This change streamlines reporting by eliminating redundant submittals of performance test and performance evaluation results. We want to note that all of the information that is currently required to be submitted in these reports will still be submitted.

Some of the proposed amendments include changes necessary to make the existing NSPS requirements consistent with the proposed electronic reporting requirements. For example, some of the NSPS that currently include requirements to submit electronic reports to the EPA's CDX would be revised to be consistent with today's proposal. Also, in order to streamline requirements to submit information to the EPA, NSPS addressed by today's proposed rulemaking that currently require the submittal of reports to the EPA Regional Offices would be revised so that electronic submittal to the EPA's CDX would suffice. In addition, the General Provisions currently provide for exceptions to certain federal or state reporting requirements in delegation agreements between the EPA and air agencies. We are proposing that information required to be reported to the EPA electronically cannot be exempted in delegation agreements. We do not believe that this proposed change will require submission to the EPA of information beyond what is currently specified by 40 CFR 60.4(b) to be submitted to the EPA. However, we are soliciting comment on whether this assumption is correct, and, if not, how we should factor that into this rulemaking. Finally, in addition to proposing to revise reporting requirements, we are proposing to amend some of the 40 CFR part 60 rules to allow affected facilities to maintain the reports that have been submitted electronically to the EPA in electronic form rather than in hardcopy form. However, any records and reports that are not submitted electronically must continue to be retained in hardcopy form, unless the specific NSPS already allows electronic recordkeeping.

We are not proposing any changes to how facilities interact with their air agencies. Air agencies will continue to receive reports in the format that they currently require unless they specify otherwise to facilities; however, the proposal allows air agencies to elect to opt in to receiving reports electronically using the EPA's system in lieu of continuing to receive them in the format that they currently require. Even if an air agency elects not to receive reports through the EPA's system, the air agency may still use the EPA's system by accepting copies of electronically submitted reports either in hardcopy form or by electronic mail. Whether an air agency chooses to use the EPA's system or not, all air agencies will have access to reports as soon as they are submitted to the EPA's CDX. In order to access the report, the air agency reviewer must be registered in the Compliance and Emissions Data Reporting Interface (CEDRI). This is the interface on the CDX that allows facilities to submit required electronic reports under 40 CFR part 60 to the EPA. To register, the reviewer must send a request for registration to cedri@epa.gov. The registration request must include the name, government email address, phone number and street address for the reviewer. To facilitate air agency access, air agency personnel who register for access to CEDRI will receive notifications when reports and associated data are submitted to the EPA's CEDRI by affected facilities in their delegated areas.

The proposed rule would be implemented upon the effective date of the final rule, which is 90 days after the date that the final rule is published in the Federal Register. We recognize that it may take some time to transition from paper reporting to electronic reporting. We understand that some reports may be due soon after the final rule is published and that you may have already compiled the majority of data in hardcopy form, with little time left to enter data into electronic reporting forms. Therefore, we are delaying the effective date of the rule until 90 days after it is published. We believe that 90 days is an adequate amount of time for this transition, as it is slightly longer than the 60-day reporting timeframe for most performance tests. Additionally, as some reports are on a quarterly schedule, a 90-day timeframe will allow enough time for the completion of quarterly reports currently in progress and start the electronic reporting process with the next quarterly report. Starting 90 days after the date that this rule is published, you would be required to submit all subsequent specified reports electronically to the EPA on the date that the specified report would next be due. These provisions would apply to all affected facilities, including those currently subject to the applicable NSPS, as well as any new, modified or reconstructed sources. Please note that the proposed 90-day delay in the effective date of this rule would not affect a facility's obligation to timely submit air emissions reports in hardcopy form to the delegated air agency and the EPA. Any such reports that are due during the 90-day period must be submitted timely.

C. What steps do you need to take to electronically submit reports to the EPA?

1. Overview of Data Flow Process

This proposal would require you (the owner or operator or responsible official) to submit specified reports currently required under 40 CFR part 60 electronically to the EPA's CDX, the point of entry for submission of electronic data to the agency. The CDX provides access to the CEDRI. This is the interface on the CDX that allows you to submit your required electronic reports under 40 CFR part 60 to the EPA.

The EPA's Electronic Reporting Tool (ERT) creates electronic versions of stationary source sampling test plans and reports of test results that can be submitted to the EPA and air agencies. Note that the proposed requirement to submit performance test reports and performance evaluation reports electronically for the affected NSPS is limited to those reports involving test methods and performance specifications that are supported by the EPA's ERT. For performance tests and evaluations that involve test methods and pollutants that are not supported by the ERT, you must continue to submit the required reports in hardcopy format to your delegated air agency and the EPA Regional Office, as applicable. The test methods and performance specifications currently supported by the ERT are listed in Table 3 (in section VI of this preamble) and on the ERT Web site (http://www.epa.gov/ttn/chief/ert/ert_info.html). We expect this list to expand over time. When we add new methods and performance specifications to the ERT, a notice will be sent out through the Clearinghouse for Inventories and Emissions Factors (CHIEF) Listserv (http://www.epa.gov/ttn/chief/listserv.html#chief) and a notice of availability will be added to the ERT Web site. We encourage you to check the Web site regularly for up-to-date information on methods and performance specifications supported by the ERT.

The existing version of CEDRI can accept submissions of performance test reports generated by the ERT, performance evaluation reports generated by the ERT and a limited number of other air emissions reports to the EPA. Facilities can submit reports for multiple NSPS at the same time. This may be desirable for facilities subject to more than one NSPS. We plan to expand CEDRI to allow submittal of additional 40 CFR part 60 summary reports, excess emission reports and other similar reports as described above. In the event CEDRI development does not yet support electronic submittal of reports for a particular NSPS or a specified report on the required submittal date, you would submit the report or reports as otherwise required by the EPA and the delegated air agency. When CEDRI is updated to support electronic submittal of the required report, you would have 90 days from the date of the reporting form's availability in CEDRI to commence electronic reporting to the EPA. Any reports that are required to be submitted prior to the date 90 days from the date the reporting form becomes available must be submitted timely and can be submitted either in hard copy or using the electronic reporting form. Notice will be sent out through the CHIEF Listserv and a notice of availability will be added to the CEDRI Web site (http://www.epa.gov/ttn/chief/cedri/index.html) when CEDRI is updated to include these reports.

The CEDRI will also have the ability to automatically import available facility identification information so that the user will not be required to input this information on every form. In most cases, the facility identification information is already part of the EPA Facility Registration System (FRS) and will be obtained from FRS through a Web service using the FRS ID. The FRS is a centrally managed EPA database that identifies facilities, sites or places subject to environmental regulations or of environmental interest. Sources without an FRS number will be able to obtain an FRS number when signing on to CEDRI and sources with an FRS number that find that some of the FRS-generated information is incorrect will be able to correct the errors in CEDRI. Finally, the CEDRI reporting tools will include additional fields and an upload area for PDF files to allow you to add information to address state, local or tribal reporting requirements that may be required in addition to the federal requirements. You are only required to submit this additional information if your air agency (1) opts into accepting reports through the EPA's system, (2) allows facilities to submit files of electronically submitted reports by electronic mail or (3) allows facilities to submit hard copies of the files submitted electronically.

The WebFIRE database (WebFIRE) (http://www.epa.gov/ttn/chief/webfire/index.html) houses the information submitted to the EPA electronically through CEDRI and is the public access site for this information. WebFIRE is also the EPA's online emissions factor repository, retrieval and development tool. Public access to the electronic data submitted to the EPA through CEDRI would be available in WebFIRE within 60 days after the package is electronically submitted. During this processing period, the EPA or air agency reviewer will have access to the submitted report if the reviewer registers for access to CEDRI through CDX, and the facility preparer may submit corrections to the report to CEDRI based on the air agency's review. We believe that this processing period is necessary to ensure that the data in WebFIRE are as complete and accurate as possible. All users will benefit from higher quality data. Since the information in the submitted package must be certified as accurate, we do not anticipate frequent changes. If, however, changes are made to the submission package prior to the end of the processing period and the package's release to WebFIRE, the processing period will start over to allow air agency reviewers time to review the new submission package. While only the corrected package will be available in WebFIRE, all versions of submitted reports will remain as part of the official record and be available to the EPA and air agency reviewers through CDX.

2. CDX CEDRI User Registration and Electronic Signature

If you are a new user, in order to electronically submit the reports subject to this proposed rule, you would first need to visit the CDX homepage (https://cdx.epa.gov/) and register in CDX. Once you have successfully registered in CDX, you will receive confirmation of successful registration, and you will be able to log in to CDX by navigating to the CDX home page and entering your user ID and password. Once in CDX, you can select CEDRI from the Active Program Service List. Detailed instructions for registering and accessing CDX and CEDRI are outlined in the CEDRI CDX User Guide available on the CEDRI Web site.⁴

⁴ U.S. Environmental Protection Agency. Central Data Exchange. CEDRI CDX User Guide. Version 5.0. October 4, 2013, http://www.epa.gov/ttn/chief/cedri/CDX%20CEDRI%20User%20Guide%20v5%200.pdf.

Once you have selected CEDRI from the Active Program Service List, you must then select a registration role. You may register either as a “preparer” or a “certifier.” The preparer (e.g., a performance test contractor or support person at the facility) compiles the data and assembles the submission packages. The preparer can upload files and complete electronic forms. However, the preparer may not submit or sign packages, unless the preparer is also a registered certifier for the facility. As part of the registration process, preparers are required to identify the certifier(s) for whom they are preparing reports. The certifier will be able to assemble submission packages (and, therefore, may also be the preparer) and will be able to modify submission packages that a preparer has assembled. The key difference between the preparer and the certifier is that the certifier can submit and sign a package using an electronic signature. The certifier is generally referred to as the “owner or operator” or “responsible official” of the facility as defined in the NSPS. To submit a report, there must be either a separate preparer and certifier or one registered certifier who acts as both the preparer and certifier.

The EPA has designed this process to be compliant with the Cross-Media Electronic Reporting Rule (CROMERR). The CROMERR (under 40 CFR part 3) provides the legal framework for electronic reporting under all of the EPA's environmental regulations and includes criteria for assuring that the electronic signature is legally associated with an electronic document for the purpose of expressing the same meaning and intention as would a handwritten signature if affixed to an equivalent paper document. In other words, the electronic signature is as equally enforceable as a paper signature. For more information on CROMERR, see the Web site: http://www.epa.gov/cromerr/.

3. Data Flow for Electronic Reports

The electronic data flow process begins with the report preparation step. In the case of performance test reports and performance evaluation reports, the EPA's ERT would be used to generate electronic performance test report and performance evaluation report files which would then be uploaded to CEDRI. Only the results of performance tests and performance evaluations which use test methods and performance specifications supported by the ERT are required to be submitted electronically to the EPA. Those performance test reports or performance evaluation reports which use test methods and performance specifications not supported by the ERT must continue to be submitted to the Administrator and/or delegated authority as currently required under the affected 40 CFR part 60 rules. The current version of the ERT and test methods and performance specifications supported by the ERT are available at: http://www.epa.gov/ttn/chief/ert/index.html. The test methods and performance specifications currently included in the ERT are listed in Table 3. We expect this list to expand over time. When we add new methods to the ERT, a notice will be sent out through the CHIEF Listserv and a notice of availability will be added to the ERT Web site. We encourage you to check the Web site regularly for up-to-date information on test methods and performance specifications supported by the ERT.

Prior to promulgation of this rulemaking, we plan to release an XML (extensible markup language) schema of data elements contained in the ERT to allow the development of alternative report options for performance test reports and performance evaluation reports. Third party software must contain all of the same data elements required by the ERT and must be CROMERR compliant. We will not preapprove third party software. Third party software will be validated through CEDRI submittal; only software that meets the requirements of the XML schema located on the ERT Web site will be accepted by CEDRI. Files developed with software that does meet the requirements of the XML schema located on the ERT Web site will be rejected by CEDRI. If you choose to use third party software, it is your responsibility to ensure that the third party software is acceptable. Use of a third party software that does not meet the requirements of the EPA's XML schema does not relieve you of your responsibility to submit the report by the submittal deadline.

If you choose to use a third party software, you would gather the necessary information required to be input for the performance test report or performance evaluation report and upload the file generated by the third party software to CEDRI. Third party software could be software developed by a third-party for the sole purpose of report submittals. It could also be a delegated air agency's electronic reporting system. We are aware that some air agencies have already developed electronic reporting systems. If the air agency's reporting system can be developed or amended such that it can upload all required data elements to the EPA's CEDRI, the delegated air agency's reporting system could serve as third-party software. In this case, you would submit your performance test or performance evaluation report to the delegated air agency through the delegated air agency's software, and the air agency's system would allow you to also submit the report to the EPA's CEDRI through the air agency's system.

Currently, the EPA's ERT is a Microsoft Access® application, and it is the only available tool to use in preparing performance test reports and performance evaluation reports for submittal to CEDRI. We are evaluating options for the development of a Web-based version of the ERT. We are, therefore, soliciting comment on whether we should develop this alternative ERT format as a reporting tool for performance test reports and performance evaluation reports.

Package preparation for summary reports, excess emission reports and subpart-specific reports that are similar to the summary reports and excess emission reports required by the 40 CFR part 60 General Provisions begins when you gather the necessary information required to be input and/or uploaded into the applicable report forms. For subpart-specific reports, we intend to build in the capability for an alternative electronic file to be submitted in lieu of filling in the CEDRI-provided subpart-specific report form. We plan to release the XML schema that is required for third-parties to develop alternative report options for air emissions reports in CEDRI prior to promulgation of this rulemaking. Third party software must contain all of the same data elements required by the report forms in CEDRI and must be CROMERR compliant. We are not approving third party software. Third party software will be validated through CEDRI submittal; only software that meets the requirements of the XML schema located on the CEDRI Web site will be accepted by CEDRI. If you choose to use third party software, it is your responsibility to ensure that the third party software is acceptable. Use of a third party software that does not meet the requirements of the EPA's XML schema does not relieve you of your responsibility to submit the report by the submittal deadline.

Once you prepare your report package in CEDRI, the registered certifier reviews the report(s) and may modify the file(s) or return the file(s) to the preparer to make modifications. When the certifier determines that the files are ready for submission, the certifier will certify the submission with a CROMERR electronic signature and submit the files through CEDRI. Following submission, the certified signature file will be stored with each report contained in the submission package as the CROMERR Copy of Record (COR) in CDX. Within 60 days of submission to CDX,⁵ each file will be sent to the EPA's WebFIRE database where it will be available for public access. Ultimately, each submission is stored in two places. The CROMERR COR is retained in CDX. The same file without the CROMERR signature is available publicly through WebFIRE.

⁵ If changes are made to the submission package prior to the end of the processing period and the package's release to WebFIRE, the processing period will start over to allow air agency reviewers time to review the new submission package. While only the corrected package will be available in WebFIRE, all versions of submitted reports will remain as part of the official record and be available to EPA and air agency reviewers through CDX.

Figure 1 illustrates an overview of the proposed data flow process for electronic report submissions.

BILLING CODE 6560-50-P

BILLING CODE 6560-50-C

D. Recordkeeping

Most of the NSPS require affected facilities to keep records, such as raw data and reports of emissions monitoring and testing, on site. Many of the NSPS require that this information be maintained in hardcopy form. Because those records, data and reports that would be required to be submitted to the EPA electronically would be stored safely and available to all stakeholders at all times, we propose that industry should be allowed to maintain electronic copies of these records, data and reports to satisfy federal recordkeeping requirements. Thus, in this rulemaking, we are proposing to eliminate the requirement to maintain hard copies of records, data and reports when these records, data and reports are submitted electronically to the EPA's CDX. This provision will benefit industry facilities that currently maintain these reports in hardcopy form; the amount of space required to store the reports will be minimized, but the information will remain accessible at the facility. We note, however, that air agencies that require submission of reports in hardcopy form may also require the maintenance of hardcopy records, data and reports.

We plan to store records, data and reports submitted to the EPA's CDX electronically in two sites (CDX and WebFIRE), with frequent backups. Upon submission of each report, CEDRI will archive a copy of each submitted report in CDX (this copy becomes the official copy of record). Both WebFIRE and CDX back up their files on a daily basis. The EPA's National Computer Center (where the WebFIRE files are stored) maintains a dual back-up file (one kept on site and the other stored off site). The CDX also employs a dual back-up system to avoid problems in the event of a catastrophe at the location of the servers storing the files. Thus, the EPA has established redundancy into the electronic reporting and storage system to ensure submitted records, data and reports are retained and available.

As noted above, we believe that electronic recordkeeping is an adequate method of record retention that will improve record accessibility and will provide reduced storage benefits to facilities, resulting in a cost savings for industry. The EPA specifically solicits comment on the proposed amendment to allow electronic recordkeeping in lieu of hardcopy records.

III. Rationale for Requiring the Electronic Submission of Specified Reports

A. Why is this proposed action needed?

The EPA believes that the electronic submittal of the reports addressed in this proposed rulemaking will increase the usefulness of the data contained in those reports, is in keeping with current trends in data availability, will further assist in the protection of public health and the environment and will ultimately result in less burden on the regulated community. Electronic reporting is in ever-increasing use and is universally considered to be faster, more efficient and more accurate for all parties once the initial systems have been established and start-up costs completed. Under current requirements, paper reports are often stored in filing cabinets or boxes, which make the reports more difficult to obtain and use for data analysis and sharing. Electronic storage of such reports would make data more accessible for review, analyses and sharing. Electronic reporting can eliminate paper-based, manual processes, thereby saving time and resources, simplifying data entry, eliminating redundancies, minimizing data reporting errors and providing data quickly and accurately to the affected facilities, air agencies, the EPA and the public.

By making data readily available, electronic reporting increases the amount of data that can be used for many purposes. One example is the development of emissions factors. An emissions factor is a representative value that attempts to relate the quantity of a pollutant released to the atmosphere with an activity associated with the release of that pollutant (e.g., kilograms of particulate emitted per megagram of coal burned). Such factors facilitate the estimation of emissions from various sources of air pollution and are an important tool in developing emissions inventories, which in turn are the basis for numerous efforts, including trends analysis, regional and local scale air quality modeling, regulatory impact assessments and human exposure modeling. Emissions factors are also widely used in regulatory applicability determinations and in permitting decisions. In most cases, emissions factors are simply averages of all available data, and they are generally assumed to be representative of long-term averages for all facilities in the source category (i.e., a population average).⁶

⁶ For more information on emissions factors and their uses, see: http://www.epa.gov/ttnchie1/ap42/.

The EPA has received feedback from stakeholders asserting that many of the EPA's emissions factors are outdated or not representative of a particular industry emission source. While the EPA believes that the emissions factors are suitable for their intended purpose, we recognize that the quality of emissions factors varies based on the extent and quality of underlying data. We also recognize that emissions profiles on different pieces of equipment can change over time due to a number of factors (fuel changes, equipment improvements, industry work practices), and it is important for emissions factors to be updated to keep up with these changes. The EPA has received feedback from stakeholders asserting that many of the EPA's emissions factors are outdated or not representative of a particular industry emission source. The EPA is currently pursuing emissions factor development improvements that include procedures to incorporate the source test data that we are proposing be submitted electronically. By requiring the electronic submission of the reports identified in this proposed rule, the EPA would be able to access and use the submitted data to update emissions factors more quickly and efficiently, creating factors that are characteristic of what is currently representative of the relevant industry sector. Likewise, an increase in the number of test reports used to develop the emissions factors will provide more confidence that the factor is of higher quality and representative of the whole industry sector. In the EPA's new emissions factor development procedures (http://www.epa.gov/ttn/chief/efpac/procedures/index.html) that incorporate the use of electronic test data, WebFIRE automatically performs routines to determine when the incorporation of new data causes a factor to statistically differ from the existing factor and calculates an updated factor. Because these routines are run automatically,⁷ the process is quicker than the manual review and calculation process, and we are able to provide representative factors sooner.

⁷ Although WebFIRE will automatically run the routines to develop new emissions factors, we will still solicit public comment on draft factors prior to finalizing factors. Notices that draft factors are available for review are sent out via the CHIEF Listserv.

Emissions factors are used in the development of emissions inventories. Improved emissions factors means that higher quality inventories will be developed on a much quicker scale as a result of electronic reporting than they would under the current paper reporting requirements. Emissions inventories are used for tracking emission trends and identifying potential sources of emissions for reduction. For example, the EPA's National Air Toxics Assessment (NATA) uses the EPA's National Emissions Inventory (NEI) in its screening level assessments to characterize the nationwide chronic cancer risk estimates and noncancer hazards from inhaling air toxics. The NATA is used as a screening tool for air agencies to prioritize pollutants, emission sources and locations of interest for further study to gain a better understanding of risks. Therefore, improving the quality of these inventories and providing updated inventories more quickly are on-going goals for the agency and a benefit to the public, air agencies and the regulated community. Consistent with the goal of improving inventories, the EPA has determined that long-term activity data (e.g., production rates, heat rate) is an important data element. This data could also be used in rule development to develop emission limits for emission standards with long averaging times. Having this data submitted electronically would reduce the burden of asking for this data in the future, during inventory and rulemaking activities. In lieu of activity data, collecting long-term emissions data would also provide useful data for inventory and rule development purposes. We are specifically requesting comment on whether and how long-term activity or emissions data should be submitted electronically.

Additionally, by making the records, data and reports addressed in this proposed rulemaking readily available, the EPA, the regulated community and the public may benefit when the EPA conducts its CAA-required technology and risk-based reviews. Because we will already have access to these reports, our ability to carry out comprehensive reviews will be increased and achieved within a shorter period of time. While the regulated community may benefit from a reduced burden of information collection requests (ICRs), the general public benefits from the agency's ability to provide these required reviews more quickly, resulting in increased public health and environmental protection.

For example, under section 112 of the CAA, the EPA establishes technology-based standards for listed source categories. Section 112(d)(6) of the CAA contains provisions requiring that the EPA periodically revisit these standards every 8 years. As a result of having performance test reports and air emission reports readily accessible, the EPA will have comprehensive data on which to base its review. These data will provide useful information on control efficiencies being achieved and maintained in practice within a source category and across source categories for regulated sources and pollutants. These reports can also be used to inform the technology-review process by providing information on improvements to add-on control technology and new control technology.

Under an electronic reporting system, the EPA's Office of Air Quality Planning and Standards (OAQPS) would have air emissions and performance test data in hand; OAQPS would not have to collect these data from the EPA Regional Offices or from delegated air agencies or industry sources in cases where these reports are not submitted to the EPA Regional Offices, e.g., when a delegation agreement creates an exception for facilities in their jurisdiction to refrain from submitting reports to the EPA Regional Offices as otherwise required by 40 CFR 60.4(a). Thus, we anticipate fewer or less substantial ICRs in conjunction with prospective CAA-required technology and risk-based reviews may be needed. We expect this to result in a decrease in time spent by industry to respond to data collection requests. We also expect the ICRs to contain less extensive stack testing provisions, as we will already have stack test data electronically. Reduced testing requirements would be a cost savings to industry. The EPA should also be able to conduct these required reviews more quickly, as OAQPS will not have to include the ICR collection time in the process or spend time collecting reports from the EPA Regional Offices.

Affected facilities could also see reduced costs as a result of the standardization of the electronic reporting system NSPS reporting forms. The forms will contain the data elements specified by the regulations in a step-by-step process. Additionally, the EPA's electronic reporting system will be able to access existing information in previously submitted reports and data stored in other EPA databases. These data can be incorporated into new reports, which will lead to reporting burden reduction through labor savings. Electronic reporting could minimize submission of unnecessary or duplicative reports in cases where facilities report to multiple government agencies and the agencies opt to rely on the EPA's electronic reporting system to view report submissions. Where air agencies continue to require a paper copy of these reports and will accept a hard copy of the electronic report, facilities will have the option to print paper copies of the electronic reporting forms to submit to the air agencies, and, thus, minimize the time spent reporting to multiple agencies. Additionally, maintenance and storage costs associated with retaining paper records could likewise be minimized by replacing those records with electronic records of electronically submitted data and reports.

There are other benefits to standardizing the format of information. Standardizing the reporting format will require the reporting of specific data elements, thereby helping to ensure completeness of the data and allowing for accurate assessment of data quality. In the past, incomplete test reports have resulted in lower quality emissions factors because the data could not be adequately reviewed to determine representativeness. Imbedded quality assurance checks will perform some of the required method calculations, reducing errors in test reports. The system will perform statistical analyses routines to evaluate below detection limit data and outliers prior to performing the emissions factor calculations. The result will be a factor of the highest quality rating which is most representative for the source category. In addition, because the system relies upon electronically submitted data, it eliminates transcription errors in moving data from paper reports to data systems for analysis. These quality assurance checks and procedures will increase the accuracy of test report data, improve the overall quality of test data and lead to more accurate emissions factors and higher quality emissions inventories. These features benefit all users of the data.

Air agencies could benefit from more streamlined and automated review of the electronically submitted data. For example, because the performance test data would be readily-available in a standard electronic format, air agencies would be able to review reports and data electronically rather than having to conduct a review of the reports and data manually. Having reports and associated data in electronic format will facilitate review through the use of software “search” options, as well as the downloading and analyzing of data in spreadsheet format. Additionally, air agencies would benefit from the reported data being accessible to them through the EPA's electronic reporting system wherever and whenever they want or need access (as long as they have access to the Internet). The ability to access and review air emission report information electronically will assist air agencies to more quickly and accurately determine compliance with the NSPS, potentially allowing a faster response to violations which could minimize harmful air emissions. This benefits both air agencies and the general public.

The general public would also benefit from electronic reporting of emissions data because the data would be accessible more quickly and easily. The EPA Web site that stores the submitted electronic data, WebFIRE, will be easily accessible to the public and will provide a user-friendly interface that any stakeholder could access.

The proposed electronic reporting of data is also consistent with electronic data trends (e.g., electronic banking and income tax filing). Electronic reporting of environmental data is already common practice in many media offices at the EPA; programs such as the Toxics Release Inventory (TRI), the Greenhouse Gas Reporting Program, Acid Rain and NOX Budget Trading Programs and the Toxic Substances Control Act (TSCA) New Chemicals Program all require electronic submissions to the EPA. The changes being proposed today are needed to continue the EPA's transition to electronic reporting. While we believe that it is unlikely that a facility will not be able to electronically report data due to lack of access to a computer and the Internet, either on its own site or through public means (e.g., a library), we are requesting comment on whether this assumption is incorrect, and, if so, whether we should have a provision that would allow facilities to submit reports in hard copy instead of electronically in these limited circumstances.

B. Why is the EPA using a phased approach to implementing electronic reporting?

Today's proposal is part of a phased approach to implementing the electronic reporting of air emissions data. This approach builds on advances that have already been made in electronic reporting of air emissions data by adding a more comprehensive group of reports from more facilities while at the same time balancing data collection objectives with the practicalities of building a user-friendly reporting platform.

The first phase included development, testing and refinement of the ERT, and, more recently, CEDRI, for use in selected air program rules and data collection efforts, resulting in the electronic submittal of a subset of performance test reports and performance evaluation reports. In a number of ICRs issued under section 114 of the CAA over the past few years, the EPA has included requirements to report the results of performance tests using ERT generated files. In addition, over two dozen EPA air program rules (in 40 CFR parts 60 and 63) already require electronic submission of performance test, performance evaluation and/or other reports directly to CDX. See http://www.epa.gov/ttn/chief/ert/ert_rules.html for a list of the promulgated rules under the CAA that require submission of these reports to the EPA's CEDRI. As a result of using the ERT to submit test reports in response to ICRs and using the ERT and the CEDRI reporting platform to comply with regulatory requirements for electronic submission, users have become more proficient in electronic reporting, including collecting and compiling the data for such reports. In aggregate, the EPA has received over 2,200 submittals electronically through CEDRI.

Throughout this first phase, we continued to improve the ERT in response to comments from users who have first-hand experience with the ERT. We have made several changes to the ERT to ensure the completeness of data collected and improve ease in using the tool. For example, we have developed a template that extracts tagged data from a Microsoft Excel® spreadsheet and inserts the data into the ERT to assist in making the input of data to the ERT easier and more efficient for those facilities that want to take advantage of this option. A discussion of other recent updates that have been made to the ERT can be found at http://www.epa.gov/ttn/chief/ert/updatehistory.pdf.

We also initiated a multi-disciplinary, cross-functional Integrated Project Team (IPT) during the first phase in the development of the CEDRI. The IPT included EPA personnel from various offices and representatives from air agencies. The objectives of the CEDRI IPT were to gain insight and ideas regarding the data flow process within the CEDRI.

This proposal represents the second phase to implementing electronic reporting of air emissions data. It would expand the number and type of air emissions reports in NSPS rules required to be submitted electronically. In developing the second phase, we considered the extent to which we should expand the number of reports to be submitted to CDX through CEDRI, starting with the 40 CFR part 60 NSPS. We chose reports that are critical to ensuring that rule requirements are met by focusing on reports of air emissions data used by the EPA and other stakeholders to evaluate the emissions and performance of individual affected facilities. Another consideration was the process of developing the CEDRI platform to accommodate user access to upload and review such data. This effort requires resources to develop the platform, and we have chosen to prioritize the data to be collected to ensure that the platform will be effective in handling the reports addressed in this proposal. In the future, we would consider expanding the number and type of reports required to be submitted electronically to facilitate the electronic collection of additional air emissions data.

C. How does this proposed action affect permits?

As a general matter, and consistent with 40 CFR 70.2, any standard or other requirement under section 111 of the CAA is an applicable requirement for title V purposes. Sources subject to the NSPS affected by this proposed rulemaking that have title V operating permits will likely need to seek a revision to their permits once this rule is final or address this when their permit comes up for renewal, consistent with 40 CFR 70.7(f)(1)(i). In addition, there may be area sources that also need permit revisions (e.g., state operating permits); however, the discussion in this section will focus on major source title V operating permits.

The title V implementing regulations found at 40 CFR parts 70 and 71, as well as state rules that are a part of state-approved title V programs, require the revision of title V permits to include the types of changes described in this proposed rulemaking. Part 70 of 40 CFR provides three basic procedural mechanisms for amending or modifying title V permits: Administrative permit amendments described at 40 CFR 70.7(d); minor permit modifications described at 40 CFR 70.7(e)(2); and significant modifications described at 40 CFR 70.7(e)(4). Each of these provisions provides criteria regarding the availability of the different mechanisms. The rule changes being proposed today generally involve changes to the method of submittal of information already required to be submitted and reported. The EPA does not expect that the changes being proposed today are likely to involve significant changes to monitoring, reporting or recordkeeping requirements in existing title V permits. As a result, to the extent consistent with applicable state rules and the terms and conditions of the title V permit, we anticipate that permitting authorities would be able to implement the changes being proposed today through a minor modification to existing title V permits. Notably, depending on the timing associated with the permit renewal cycle, these changes could be completed as part of a permit renewal consistent with 40 CFR 70.7(f). The EPA recognizes that permitting authorities may have other suitable mechanisms for making the necessary changes available, such as group processing of certain types of revisions to title V operating permits.

IV. Air Agency Delegated Authority Impacts

The CAA allows the EPA to delegate the authority to implement and enforce NSPS to air agencies (CAA section 111(c), 42 U.S.C. 7411(c)). Air agencies to which authority to implement and enforce the NSPS has been delegated routinely receive performance test reports, performance evaluation reports, summary reports, excess emission reports and other reports from industry as part of their compliance monitoring, enforcement and oversight responsibilities. In many cases, air agencies have their own rules in place to implement and enforce the federal rules, and these rules may require industry to submit these reports to them in hardcopy form (as is currently the case in the EPA rules). Air agency rules may require additional, but associated, information in these reports. In addition, as provided in 40 CFR 60.4(b), some air agency delegation agreements create an exception for facilities in their jurisdiction to refrain from submitting reports to the EPA Regional Offices as otherwise required by 40 CFR 60.4(a). Under this proposed rule, this exception would not apply to electronic reports required to be submitted to CEDRI.

Air agency delegations and reporting and recordkeeping procedures established by those agencies would be unaffected by this proposed rule as we are not proposing to change how agencies and their affected facilities currently interact. Air agencies will continue to require reports to be submitted in hardcopy form and records to be maintained in hardcopy form as they deem appropriate. However, we anticipate that some air agencies may choose to modify their current report submission requirements to accept those reports that are required to be submitted to the EPA electronically in lieu of the paper reports. In fact, we are aware of at least two air agencies that already require their facilities to use the ERT to electronically submit performance test reports to the air agency. To facilitate air agency access, air agency personnel who register for access to CEDRI will receive notifications when reports and associated data are submitted to the EPA's CEDRI by affected facilities in their delegated areas. Air agencies would have full access to reports and associated data as soon as they are submitted, and would not have to purchase any new software or hardware to access this information.

In general, we anticipate that many air agencies will choose to transition to the use of the electronic reports because of the numerous benefits associated with electronic reporting:

• Streamlined and automated emissions data and report review potential. Access to data in a common electronic repository and format would allow air agencies to conduct standard automated data reviews that would ultimately streamline the time and steps that air agencies would need in their review of affected facility emissions data and reports. Air agencies could also require their facilities to provide air agency-required data that are routinely submitted with the NSPS-required reports, and the EPA reporting templates will be able to accommodate the additional air agency-required data. In this manner, air agencies that elect to receive reports through the EPA's electronic reporting system can be assured of receiving the same information that they currently receive in paper reports submitted to them by affected facilities.

• Readily-accessible data. Air agencies would be able to access reports and data submitted and available electronically on-line from anywhere and anytime that they can obtain access to the Internet. Additionally, electronic files can be downloaded and saved to a data drive or hard drive for quick access and use during facility site visits. Air agencies could develop data retrieval programs specific to their needs.

• Federal repository/back-up system. Air agencies could be confident that the federal repository/back-up system would provide needed redundancy and security for submitted reports.

• Decreased air agency storage space needed. Because the specified data and reports would be submitted to the EPA electronically and will be stored safely and available to all stakeholders at all times (including air agencies) and because facilities would be allowed to maintain an electronic copy of the specified data and reports, air agencies would have the option of not maintaining these reports in either hardcopy or electronic form.

V. Impacts of Proposed Amendments

We estimate total annualized savings for regulated facilities due to the proposed amendments to be approximately $300,000 per year. The estimate reflects a 7-percent discount rate and a 20-year annualization period. While we know there will also be a savings for air agencies and the EPA based upon the benefits described earlier in this preamble, we have not quantified these savings. The total annualized savings estimate reflects different assumptions for year 1, year 2 and year 3 through year 20. This is because, in some cases, air agencies have their own rules that require hard copies of reports, and it would take time for those air agencies to transition (if they choose to) to the use of the EPA's electronic reporting system for the reports being proposed to be submitted electronically to the EPA's CDX. Thus, we have the transition from paper to electronic reporting drawn out to 3 years for those air agencies that adopt the EPA's electronic reporting requirements, in order to provide the time it would take to update permit requirements and create or change air agency reporting rules, where necessary. We assume that air agencies would continue to require submission of reports in hardcopy form to satisfy air agency reporting requirements in years 1 and 2 because the air agencies would not yet have had time to update reporting requirements. There is an initial cost associated with this rule because hardcopy and electronic reports may both be required during this time period, there is a learning curve associated with the use of our electronic system and data need to be entered initially which will be automatically populated in future reports. We estimate the cost of this rule for regulated facilities to be $6,010,000 for the first year and $4,980,000 for the second year. We assume that beginning in year 3, the air agencies will have had time to update reporting requirements as necessary so that hardcopy reports addressed by this proposal will no longer be required to be submitted to the air agencies for those air agencies that opt to review submitted reports through the EPA's electronic reporting system. Because only electronic reports will be required by this proposed rule, facilities will be familiar with the system, and initial data will already be populated in the system, we estimate that there will be a cost savings of approximately $1,460,000 for every year starting in year 3. For facilities where the air agency is not opting to view reports through the EPA's electronic reporting system, the system is being built such that the report will be able to be printed by the facility. The facility will then be able to mail the printed report to the air agency, if the air agency will accept the printed report in lieu of any otherwise required paper report. While there will be some extra burden associated with printing and mailing the report, we assume that the burden will be equal to or less than the current burden associated with submitting hardcopy reports and, therefore, equal to or less than the savings associated with entering the data electronically.

For each of the three time periods (i.e., year 1, year 2 and year 3 through year 20), Table 4 (in section VI of this preamble) provides a summary of the number of each type of report submitted and the total labor time and savings that would accrue. The following section briefly discusses the data used in calculating each component. For additional details on the calculations, please refer to the “Electronic Reporting and Recordkeeping Requirements for NSPS Rule Estimate 09-17-2013 includes Part 60.xlsx” worksheet located in the docket.

To estimate costs and savings associated with annual electronic submittal of source performance test reports, the agency compiled data on the total number of source performance tests required annually by 40 CFR part 60 and its respective subparts.⁸ The total number of source performance test reports submitted annually is estimated to be 1,393. Because most NSPS do not require more than one source performance test per year, to calculate the annualized costs, we assessed the number of facilities and the number of stack tests that were included under ICRs (managed by the Office of Information and Regulatory Affairs (OIRA), OMB).

⁸ The data are found in the following worksheet in the docket—ERRR Rule EIA ICR Data Part 60.xlsx.

To estimate costs and savings associated with periodic reports, we compiled data on the total number of summary report and excess emission report submittals through a review of 40 CFR part 60 ICRs. The estimated number of periodic reports submitted each year is 17,612.

In year 3 through year 20, we assume that written reports are no longer required by approximately 75 percent of the air agencies and that there is labor savings associated with only requiring electronic report submittal. This estimate is based on data collected from the IPT, a multi-disciplinary, cross-functional team that included EPA personnel from various offices and representatives from air agencies. Due to the ability of the electronic reporting system to access existing information in previously submitted reports, we assume that there is a 50-percent labor savings associated with electronically submitting source performance test reports, and we assume a 25-percent labor savings associated with electronically submitting periodic reports.⁹

⁹ The 50-percent labor savings assumes an existing source performance test file can be reused and already contains about 50 percent of required data. The 25-percent labor savings assumes about 25-percent of the required data is in existing databases and will not need to be submitted a second time.

We aggregated the labor costs and savings and annualized the totals over a 20-year period using a 7-percent discount rate; we estimated total annualized savings for this proposed rule to be approximately $300,000 per year for regulated facilities. We used labor rates from the Bureau of Labor Statistics and selected a rate for the Management, Professional and Related Occupations category; we adjusted the rate upward by 67 percent to reflect overhead.¹⁰

¹⁰ The labor rates used in the analysis can be found at http://www.bls.gov/news.release/pdf/ecec.pdf, Table 9, Management, Professional and Related Occupations.

VI. Tables

Table 1—40 CFR Part 60 Subparts Unaffected or Excluded by Proposed Amendments
Name | Subpart | Rationale
Adoption and Submittal of State Plans for Designated Facilities | B | Requires that states adopt and submit a state plan to the EPA to implement emission guidelines developed under the CAA. Subpart B does not contain emission standards or recordkeeping and reporting requirements. Therefore, subpart B is not amended or affected by this proposed rule.
Emission Guidelines and Compliance Times | C | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Emission Guidelines and Compliance Times for Large Municipal Waste Combustors that are Constructed On or Before September 20, 1994 | Cb | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Emission Guidelines and Compliance Times for Municipal Solid Waste Landfills | Cc | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Emissions Guidelines and Compliance Times for Sulfuric Acid Production Units | Cd | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Emission Guidelines and Compliance Times for Hospital/Medical/Infectious Waste Incinerators | Ce | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Standards of Performance for Fossil-Fuel-Fired Steam Generators | D | Reports and data will be reviewed to address electronic reporting under a separate and independent rulemaking.
Standards of Performance for Electric Utility Steam Generating Units | Da | Reports and data will be reviewed to address electronic reporting under a separate and independent rulemaking.
Standards of Performance for Industrial-Commercial-Institutional Steam Generating Units | Db | Reports and data will be reviewed to address electronic reporting under a separate and independent rulemaking.
Standards of Performance for Small Industrial-Commercial-Institutional Steam Generating Units | Dc | Reports and data will be reviewed to address electronic reporting under a separate and independent rulemaking.
Standards of Performance for Storage Vessels for Petroleum Liquids for Which Construction, Reconstruction, or Modification Commenced After June 11, 1973, and Prior to May 19, 1978 | K | None of the reports required under subpart K contain air emissions data that the EPA is requesting be submitted electronically under this proposal.
Standards of Performance for Equipment Leaks of VOC in Petroleum Refineries for Which Construction, Reconstruction, or Modification Commenced After January 4, 1983, and On or Before November 7, 2006 | GGG | None of the reports required under subpart GGG contain air emissions data that the EPA is requesting be submitted electronically under this proposal.
Standards of Performance for Equipment Leaks of VOC in Petroleum Refineries for Which Construction, Reconstruction, or Modification Commenced After November 7, 2006 | GGGa | None of the reports required under subpart GGGa contain air emissions data that the EPA is requesting be submitted electronically under this proposal.
Standards of Performance for Petroleum Dry Cleaners | JJJ | None of the reports required under subpart JJJ contain air emissions data that the EPA is requesting be submitted electronically under this proposal.
Standards of Performance for Equipment Leaks of VOC From Onshore Natural Gas Processing Plants for Which Construction, Reconstruction, or Modification Commenced After January 20, 1984, and On or Before August 23, 2011 | KKK | None of the reports required under subpart KKK contain air emissions data that the EPA is requesting be submitted electronically under this proposal.
Emission Guidelines and Compliance Times for Small Municipal Waste Combustion Units Constructed On or Before August 30, 1999 | BBBB | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Standards of Performance for Commercial and Industrial Solid Waste Incineration Units | CCCC | Electronic reporting is being addressed under a separate and independent rulemaking.
Emissions Guidelines and Compliance Times for Commercial and Industrial Solid Waste Incineration Units | DDDD | Electronic reporting is being addressed under a separate and independent rulemaking.
Emission Guidelines and Compliance Times for Other Solid Waste Incineration Units that Commenced Construction On or Before December 9, 2004 | FFFF | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.
Emission Guidelines and Compliance Times for Existing Sewage Sludge Incineration Units | MMMM | Emission guidelines apply to air agencies. Because it would be overly burdensome to require air agencies to revise and resubmit implementation plans solely to address electronic reporting, we are not proposing to revise the emission guidelines to require electronic reporting to the EPA at this time. Reports and data will be reviewed to address electronic reporting under the emission guidelines in separate and independent rulemakings.

Table 2—40 CFR Part 60 Subparts Affected by Proposed Amendments
Name | Subpart
General Provisions | A
Standards of Performance for Incinerators | E
Standards of Performance for Municipal Waste Combustors for which Construction is Commenced After December 20, 1989 and On or Before September 20, 1994 | Ea
Standards of Performance for Large Municipal Waste Combustors for which Construction is Commenced After September 20, 1994 or for Which Modification or Reconstruction Is Commenced After June 19, 1996 | Eb
Standards of Performance for New Stationary Sources: Hospital/Medical/Infectious Waste Incinerators | Ec
Standards of Performance for Portland Cement Plants | F
Standards of Performance for Nitric Acid Plants | G
Standards of Performance for Nitric Acid Plants for which Construction, Reconstruction, or Modification Commenced After October 14, 2011 | Ga
Standards of Performance for Sulfuric Acid Plants | H
Standards of Performance for Hot Mix Asphalt Facilities | I
Standards of Performance for Petroleum Refineries | J
Standards of Performance for Petroleum Refineries for which Construction, Reconstruction, or Modification commenced After May 14, 2007 | Ja
Standards of Performance for Storage Vessels for Petroleum Liquids for which Construction, Reconstruction, or Modification Commenced After May 18, 1978, and Prior to July 23, 1984 | Ka
Standards of Performance for Volatile Organic Liquid Storage Vessels (Including Petroleum Liquid Storage Vessels) for Which Construction, Reconstruction, or Modification Commenced After July 23, 1984 | Kb
Standards of Performance for Secondary Lead Smelters | L
Standards of Performance for Secondary Brass and Bronze Production Plants | M
Standards of Performance for Primary Emissions from Basic Oxygen Process Furnaces for which Construction is Commenced After June 11, 1973 | N
Standards of Performance for Secondary Emissions from Basic Oxygen Process Steelmaking Facilities for which Construction is Commenced After January 20, 1983 | Na
Standards of Performance for Sewage Treatment Plants | O
Standards of Performance for Primary Copper Smelters | P
Standards of Performance for Primary Zinc Smelters | Q
Standards of Performance for Primary Lead Smelters | R
Standards of Performance for Primary Aluminum Reduction Plants | S
Standards of Performance for the Phosphate Fertilizer Industry: Wet-Process Phosphoric Acid Plants | T
Standards of Performance for the Phosphate Fertilizer Industry: Superphosphoric Acid Plants | U
Standards of Performance for the Phosphate Fertilizer Industry: Diammonium Phosphate Plants | V
Standards of Performance for the Phosphate Fertilizer Industry: Triple Superphosphate Plants | W
Standards of Performance for the Phosphate Fertilizer Industry: Granular Triple Superphosphate Storage Facilities | X
Standards of Performance for Coal Preparation and Processing Plants | Y
Standards of Performance for Ferroalloy Production Facilities | Z
Standards of Performance for Steel Plants: Electric Arc Furnaces Constructed After October 21, 1974 and On or Before August 17, 1983 | AA
Standards of Performance for Steel Plants: Electric Arc Furnaces and Argon-Oxygen Decarburization Vessels Constructed After August 17, 1983 | AAa
Standards of Performance for Pulp Mills | BB
Standards of Performance for Kraft Pulp Mill Affected Sources for which Construction, Reconstruction, or Modification Commenced After May 23, 2013 | BBa
Standards of Performance for Glass Manufacturing Plants | CC
Standards of Performance for Grain Elevators | DD
Standards of Performance for Surface Coating of Metal Furniture | EE
Standards of Performance for Stationary Gas Turbines | GG
Standards of Performance for Lime Manufacturing Plants | HH
Standards of Performance for Lead-Acid Battery Manufacturing Plants | KK
Standards of Performance for Metallic Mineral Processing Plants | LL
Standards of Performance for Automobile and Light Duty Truck Surface Coating Operations | MM
Standards of Performance for Phosphate Rock Plants | NN
Standards of Performance for Ammonium Sulfate Manufacture | PP
Standards of Performance for the Graphic Arts Industry: Publication Rotogravure Printing | QQ
Standards of Performance for Pressure Sensitive Tape and Label Surface Coating Operations | RR
Standards of Performance for Industrial Surface Coating: Large Appliances | SS
Standards of Performance for Metal Coil Surface Coating | TT
Standards of Performance for Asphalt Processing and Asphalt Roofing Manufacture | UU
Standards of Performance for Equipment Leaks of VOC in the Synthetic Organic Chemicals Manufacturing Industry for which Construction, Reconstruction, or Modification Commenced After January 5, 1981 and On or Before November 7, 2006 | VV
Standards of Performance for Equipment Leaks of VOC in the Synthetic Organic Chemicals Manufacturing Industry for which Construction, Reconstruction, or Modification Commenced After November 7, 2006 | VVa
Standards of Performance for the Beverage Can Surface Coating Industry | WW
Standards of Performance for Bulk Gasoline Terminals | XX
Standards of Performance for New Residential Wood Heaters ᵃ | AAA
Standards of Performance for the Rubber Tire Manufacturing Industry | BBB
Standards of Performance for Volatile Organic Compound (VOC) Emissions from the Polymer Manufacturing Industry | DDD
Standards of Performance for Flexible Vinyl and Urethane Coating and Printing | FFF
Standards of Performance for Synthetic Fiber Production Facilities | HHH
Standards of Performance for Volatile Organic Compound (VOC) Emissions From the Synthetic Organic Chemical Manufacturing Industry (SOCMI) Air Oxidation Unit Processes | III
Standards of Performance for SO2 Emissions from Onshore Natural Gas Processing for which Construction, Reconstruction, or Modification Commenced After January 20, 1984, and On or Before August 23, 2011 | LLL
Standards of Performance for Volatile Organic Compound (VOC) Emissions from Synthetic Organic Chemical Manufacturing Industry (SOCMI) Distillation Operations | NNN
Standards of Performance for Nonmetallic Mineral Processing Plants | OOO
Standards of Performance for Wool Fiberglass Insulation Manufacturing Plants | PPP
Standards of Performance for VOC Emissions from Petroleum Refinery Wastewater Systems | QQQ
Standards of Performance for Volatile Organic Compound Emissions From Synthetic Organic Chemical Manufacturing Industry (SOCMI) Reactor Processes | RRR
Standards of Performance for Magnetic Tape Coating Facilities | SSS
Standards of Performance for Industrial Surface Coating: Surface Coating of Plastic Parts for Business Machines | TTT
Standards of Performance for Calciners and Dryers in Mineral Industries | UUU
Standards of Performance for Polymeric Coating of Supporting Substrates Facilities | VVV
Standards of Performance for Municipal Solid Waste Landfills | WWW
Standards of Performance for Small Municipal Waste Combustion Units for Which Construction is Commenced After August 30, 1999 or for Which Modification or Reconstruction is Commenced After June 6, 2001 | AAAA
Standards of Performance for Other Solid Waste Incineration Units for Which Construction is Commenced After December 9, 2004 or for Which Modification or Reconstruction Is Commenced After June 16, 2006 | EEEE
Standards of Performance for Stationary Compression Ignition Internal Combustion Engines | IIII
Standards of Performance for Stationary Spark Ignition Internal Combustion Engines | JJJJ
Standards of Performance for Stationary Combustion Turbines | KKKK
Standards of Performance for New Sewage Sludge Incineration Units | LLLL
Standards of Performance for Crude Oil and Natural Gas Production, Transmission, and Distribution | OOOO
ᵃ Subpart AAA is an affected subpart only because of a proposed revision necessary to retain the current exclusion for submission of performance test reports. There are no proposed electronic reporting requirements under the proposed revisions.

Table 3—Test Methods Currently Supported in the ERT
US EPA Methods 1 through 4
US EPA Method 3A
US EPA Method 5
US EPA Method 5B
US EPA Method 5F
US EPA Method 5G
US EPA Method 6C
US EPA Method 7E
US EPA Method 8
US EPA Method 10
US EPA Method 12
US EPA Method 13A
US EPA Method 13B
US EPA Method 17
US EPA Method 23
US EPA Method 25A
US EPA Method 26
US EPA Method 26A
US EPA Method 29
US EPA Method 30B
US EPA Method 101
US EPA Method 101A
US EPA Method 102
US EPA Method 103
US EPA Method 104
US EPA Method 108
US EPA Method 201A
US EPA Method 202
US EPA Method 306
US EPA Method 306A
US EPA Method 315
US EPA Method 316
SW-846 Method 0011
SW-846 Method 0061
Conditional Test Method 39
California Air Resources Board Method 428
California Air Resources Board Method 429
Performance Specification 2
Performance Specification 3
Performance Specification 4

Table 4—Summary of Cost Savings ᵃ
Report | Number of submittals | Labor rate | Hours/test submittal—year 1 | Total labor costs for year 1
Source Performance Test | 1,393 | $85.55 | 6 | $710,000
Periodic Reports | 17,612 | 85.55 | 3.5 | 5,300,000

Report | Number of submittals | Labor rate | Hours/test submittal—year 2 | Total labor costs for year 2
Source Performance Test | 1,393 | $85.55 | 4 | $480,000
Periodic Reports | 17,612 | 85.55 | 3 | 4,500,000

Report | Number of submittals | Labor rate | Hours/test submittal—year 3 through 20 | Total labor costs each year for years 3 through 20
Source Performance Test | 1,051 | $85.55 | (4) | ($360,000)
Periodic Reports | 13,286 | 85.55 | (1) | (1,100,000)
ᵃ Memo from Robin Langdon, EPA/OAR/OAQPS/AEG to Colin Boswell, EPA/OAR/OAQPS/MPG. Economic Impact Analysis for the Electronic Reporting and Recordkeeping Requirements for NSPS Rule. September 25, 2014.

VII. Statutory and Executive Order Reviews

Additional information about these statutes and Executive Orders can be found at http://www2.epa.gov/laws-regulations/laws-and-executive-orders.

A. Executive Orders 12866: Regulatory Planning and Review and Executive Order 13563: Improving Regulation and Regulatory Review

This action is not a significant regulatory action and was therefore not submitted to OMB for review.

An analysis of the potential costs and benefits associated with this action is contained in the Economic Impact Analysis for Electronic Reporting and Recordkeeping Requirements for NSPS Rule.¹¹ This document addresses the economic impacts of the Electronic Reporting and Recordkeeping Requirements for New Source Performance Standards Rule. We estimated the total annualized savings for this proposed rule to be approximately $300,000 per year.

¹¹ Memo from Robin Langdon, EPA/OAR/OAQPS/AEG to Colin Boswell, EPA/OAR/OAQPS/MPG. Economic Impact Analysis for the Electronic Reporting and Recordkeeping Requirements for NSPS Rule. September 25, 2014.

B. Paperwork Reduction Act (PRA)

This action does not impose any new information collection burden under the PRA. OMB has previously approved the information collection activities contained in the existing regulations being amended with this action and this action does not involve the collection of any new information. Specifically, the purpose of this rule is to require that some targeted reports currently required to be submitted in hardcopy form to both the EPA and the delegated authority be submitted electronically to the EPA. While some delegation agreements have excepted hardcopy reporting to the EPA and this rule will not allow such exceptions for electronic reporting, the reports that would be submitted electronically in response to these proposed amendments contain the same data elements currently required by the affected NSPS to be submitted in hardcopy form to the air agencies. More importantly, these proposed amendments would neither require additional reports nor require that additional content be added to already required reports. Therefore, this action would not impose any new information collection burden. Further, electronic reporting would reduce costs associated with information collection and, thus, compliance costs in the long-term.

C. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. As described in section V of this preamble, implementation of this rule would result in savings of $300,000 per year due to reduced reporting burden. We have, therefore, concluded that this action will relieve regulatory burden for all directly regulated small entities. We continue to be interested in the potential impacts of this proposed rule on small entities and welcome comments on issues related to such impacts.

D. Unfunded Mandates Reform Act (UMRA)

This action does not contain an unfunded mandate of $100 million or more as described in UMRA, 2 U.S.C. 1531-1538, and does not significantly or uniquely affect small governments. The action imposes no enforceable duty on any state, local or tribal governments or the private sector.

State, local or tribal governments will not be required to change the way that they interact with their facilities, unless they choose to do so. The only action required on the part of state, local or tribal governments is to update permitting requirements to reflect the electronic reporting provisions. We expect this to be a minimal burden, as most of these updates can be done during the permit renewal process.

E. Executive Order 13132: Federalism

This action does not have federalism implications. It will not have substantial direct effects on the states, on the relationship between the national government and the states or on the distribution of power and responsibilities among the various levels of government.

Although section 6 of Executive Order 13132 does not apply to this proposed action, the EPA did consult with state and local officials representing air agencies in developing this action. In discussions with personnel in some air agencies and representatives for air agencies such as the National Association of Clean Air Agencies (NACAA), Association of Air Pollution Control Agencies (AAPCA) and Northeast States for Coordinated Air Use Management (NESCAUM) regarding this proposed rulemaking, they raised the issue of whether this proposal would change their delegated authority to implement and enforce federal air regulations (including NSPS). Specifically, air agencies expressed a concern about how this action would affect how they receive performance test reports and other air emissions data reports targeted by this action.

This action would not affect an air agency's delegated authority, and air agencies would continue to receive reports directly from affected facilities in whatever format they require. The major difference is that air agencies would also have access to reports being proposed to be submitted to the EPA electronically through the EPA's CDX and WebFIRE, and would have the option of not receiving these reports directly from affected facilities. Because the proposed amendments do not interfere with the air agencies' authority or how they currently receive reports, we have addressed the concerns regarding the air agencies' authority and ability to implement and enforce the subject federal air regulations.

We initiated a multi-disciplinary, cross-functional IPT during the development of the CEDRI that included EPA personnel from various offices and representatives from air agencies. The objectives of the CEDRI IPT were to gain insight and ideas regarding the data flow process within the CEDRI.

In the spirit of Executive Order 13132, and consistent with EPA policy to promote communications between the EPA and state and local governments, the EPA specifically solicits comment on this proposed action from state and local officials.

F. Executive Order 13175: Consultation and Coordination With Indian Tribal Governments

This action does not have tribal implications, as specified in Executive Order 13175. It would not have substantial direct effects on tribal governments, on the relationship between the federal government and Indian tribes or on the distribution of power and responsibilities between the federal government and Indian tribes, as specified in Executive Order 13175. Thus, Executive Order 13175 does not apply to this action. Nonetheless, to promote meaningful involvement, the EPA held a conference call with representatives from tribes on November 29, 2012, to discuss details of the proposed amendments. Further tribal and public input is expected through public comment on the proposed amendments. The EPA specifically solicits additional comment on the proposed action from tribal officials.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not subject to Executive Order 13211, because it is not a significant regulatory action under Executive Order 12866.

I. National Technology Transfer and Advancement Act (NTTAA)

This rulemaking does not involve technical standards.

J. Executive Order 12898: Federal Actions To Address Environmental Justice in Minority Populations and Low-Income Populations

The EPA believes the human health or environmental risk addressed by this action will not have potential disproportionately high and adverse human health or environmental effects on minority, low-income or indigenous populations because it does not affect the level of protection provided to human health or the environment.

Specifically, requiring the electronic submission of reports that are currently required to be submitted in hardcopy format would not affect the level of protection provided to human health or the environment. On the contrary, we expect electronic reporting to increase complete, accurate and timely submittal of data which will, in turn, improve the protection of public health and the environment, providing a beneficial impact to all populations.

List of Subjects in 40 CFR Part 60

Environmental protection, Air pollution control, Hazardous substances, Reporting and recordkeeping requirements.

Dated: February 26, 2015.
Gina McCarthy,
Administrator.

For the reasons stated in the preamble, title 40, chapter I, of the Code of Federal Regulations is proposed to be amended as follows:

PART 60—STANDARDS OF PERFORMANCE FOR NEW STATIONARY SOURCES

1. The authority citation for part 60 continues to read as follows:

Authority: 42 U.S.C. 7401, et seq.

Subpart A—General Provisions

2. Section 60.4 is amended by revising paragraphs (a) introductory text and (b) introductory text to read as follows:

§ 60.4 Address.

(a) All requests, reports, applications, submittals, and other communications to the Administrator pursuant to this part shall be submitted in duplicate to the appropriate Regional Office of the U.S. Environmental Protection Agency to the attention of the Director of the Division indicated in the following list of EPA Regional Offices. If a request, report, application, submittal, or other communication is required by this part to be submitted electronically via the EPA's Central Data Exchange (CDX) then such submission satisfies the requirements of this paragraph.

* * * * *

(b) Section 111(c) directs the Administrator to delegate to each State, when appropriate, the authority to implement and enforce standards of performance for new stationary sources located in such State. Indian tribes which have obtained treatment in the same manner as a state (TAS) for that purpose may also be delegated such authority. All information required in this part to be submitted to the EPA, must also be submitted in paper format to the appropriate State or Tribal Agency of any State or Tribe to which this authority has been delegated (the delegated authority) unless the delegated authority specifies another format. Information submitted in paper format must be postmarked no later than the date that the report is required to be submitted to the EPA's CDX electronically. Any information required to be submitted electronically by this part via the EPA's CDX may, at the discretion of the delegated authority, satisfy the requirements of this paragraph. Each specific delegation may exempt sources from certain Federal or State reporting requirements under this part, with the exception of Federal electronic reporting requirements under this part. Sources may not be exempted from Federal electronic reporting requirements. If the electronic reporting form for the subpart of interest is not available in the Compliance and Emissions Data Reporting Interface (CEDRI) at the time that the report is due, the owner or operator must submit the report to the Administrator at the appropriate address listed in this section. The owner or operator must begin submitting reports via CEDRI no later than 90 days after the form becomes available in CEDRI. All reports must be submitted by the deadline specified in the subpart of interest, regardless of the method in which the report is submitted. The appropriate mailing address for those States whose delegation requests have been approved is as follows: * * *

3. Section 60.7 is amended by revising paragraph (c) introductory text and adding paragraph (i) to read as follows:

§ 60.7 Notification and record keeping.

* * * * *

(c) Each owner or operator required to install a continuous monitoring device shall submit excess emissions and monitoring systems performance report (excess emissions are defined in applicable subparts) and-or summary report form (see paragraph (d) of this section) to the Administrator semiannually, except when: More frequent reporting is specifically required by an applicable subpart; or the Administrator, on a case-by-case basis, determines that more frequent reporting is necessary to accurately assess the compliance status of the source. Unless otherwise specified by an applicable subpart, each owner or operator shall submit reports required by this paragraph to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. All reports shall be submitted by the 30th day following the end of each six-month period, regardless of the method in which the report is submitted, as required under this part. Reports of excess emissions shall include the following information: * * *

(i) Any records required to be maintained by this part that are submitted electronically via the EPA's CDX may be maintained in electronic format.

4. Section 60.8 is amended by revising paragraph (a) introductory text and adding paragraph (j) to read as follows:

§ 60.8 Performance tests.

(a) Except as specified in paragraphs (a)(1), (a)(2), (a)(3), and (a)(4) of this section, within 60 days after achieving the maximum production rate at which the affected facility will be operated, but not later than 180 days after initial startup of such facility, or at such other times specified by this part, and at such other times as may be required by the Administrator under section 114 of the Act, the owner or operator of such facility shall conduct performance test(s) and submit to the Administrator a report of the results of such performance test(s) following the procedure specified in paragraph (j) of this section.

* * * * *

(j) Unless otherwise specified in an applicable subpart, each owner or operator must submit the results of all performance tests following the procedure specified in either paragraph (j)(1) or (j)(2) of this section.

(1) For data collected using test methods supported by the EPA's Electronic Reporting Tool (ERT) as listed on the EPA's ERT Web site (http://www.epa.gov/ttn/chief/ert/index.html) at the time of the test, the owner or operator must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. Owners or operators who claim that some of the performance test information being submitted is confidential business information (CBI) must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For data collected using test methods that are not supported by the EPA's ERT as listed on the EPA's ERT Web site at the time of the test, the owner or operator must submit the results of the performance test to the Administrator at the appropriate address listed in § 60.4.

5. Section 60.13 is amended by revising paragraph (c)(2) to read as follows:

§ 60.13 Monitoring requirements.

* * * * *

(c) * * *

(2) Except as provided in paragraph (c)(1) of this section, the owner or operator of an affected facility shall submit to the Administrator within 60 days of completion of the performance evaluation a report of the results of the performance evaluation. Unless otherwise provided by an applicable subpart, the results of the performance evaluation shall be submitted following the procedure specified in either paragraph (c)(2)(i) or (c)(2)(ii) of this section.

(i) For performance evaluations of continuous monitoring systems measuring relative accuracy test audit (RATA) pollutants that are supported by the EPA's Electronic Reporting Tool (ERT) as listed on the EPA's ERT Web site (http://www.epa.gov/ttn/chief/ert/index.html at the time of the test, the owner or operator shall submit the results of the performance evaluation to the EPA via the Compliance and Emissions Data Reporting Interface (CEDRI). (CEDRI can be accessed through the EPA's Central Data Exchange (CDX) (https://cdx.epa.gov/).) Performance evaluation data shall be submitted in a file format generated through the use of the EPA's ERT or an alternate electronic file format consistent with the extensible markup language (XML) schema listed on the EPA's ERT Web site. Owners or operators who claim that some of the performance evaluation information being submitted is confidential business information (CBI) shall submit a complete file generated through the use of the EPA's ERT or an alternate electronic file consistent with the XML schema listed on the EPA's ERT Web site, including information claimed to be CBI, on a compact disc, flash drive, or other commonly used electronic storage media to the EPA. The electronic media shall be clearly marked as CBI and mailed to U.S. EPA/OAQPS/CORE CBI Office, Attention: Group Leader, Measurement Policy Group, MD C404-02, 4930 Old Page Rd., Durham, NC 27703. The same ERT or alternate file with the CBI omitted shall be submitted to the EPA via the EPA's CDX as described earlier in this paragraph.

(ii) For any performance evaluations of continuous monitoring systems measuring RATA pollutants that are not supported by the EPA's ERT as listed on the EPA's ERT Web site at the time of the test, the owner or operator shall submit two or, upon request, more copies of a written report of the results of the performance evaluation to the Administrator at the appropriate address listed in § 60.4.

* * * * *

6. Section 60.19 is amended by revising paragraph (b) to read as follows:

§ 60.19 General notification and reporting requirements.

* * * * *

(b) For the purposes of this part, if an explicit postmark and-or electronic submittal deadline is not specified in an applicable requirement for the submittal of a notification, application, report, or other written communication to the Administrator, the owner or operator shall postmark, when paper submission is required by this part, and electronically submit, when electronic submission is required by this part, the submittal on or before the number of days specified in the applicable requirement. For example, if a notification must be submitted 15 days before a particular event is scheduled to take place, the notification shall be postmarked, when paper submission is required by this part, and electronically submitted, when electronic submission is required by this part, on or before 15 days preceding the event; likewise, if a notification must be submitted 15 days after a particular event takes place, the notification shall be delivered or postmarked, when paper submission is required by this part, and electronically submitted, when electronic submission is required by this part, on or before 15 days following the end of the event. For submittals required to be submitted in paper form, the use of reliable non-Government mail carriers that provide indications of verifiable delivery of information required to be submitted to the Administrator, similar to the postmark provided by the U.S. Postal Service, or alternative means of delivery, including the use of electronic media, agreed to by the permitting authority, is acceptable.

Subpart Ea—Standards of Performance for Municipal Waste Combustors for Which Construction Is Commenced After December 20, 1989 and On or Before September 20, 1994

7. Section 60.50a is amended by revising paragraph (l) to read as follows:

§ 60.50a Applicability and delegation of authority.

* * * * *

(l) The following authorities shall be retained by the Administrator and not transferred to a State:

(1) Approval of an alternative to any electronic reporting to the EPA required by this subpart.

(2) [Reserved]

* * * * *

8. Section 60.59a is amended by:

a. Revising paragraph (c);

b. Revising paragraphs (e) through (g); and

c. Adding paragraph (k).

The revisions and addition read as follows:

§ 60.59a Reporting and recordkeeping requirements.

* * * * *

(c) Following the initial compliance test as required under §§ 60.8 and 60.58a, the owner or operator of an affected facility located within a large MWC plant shall submit, following the procedure specified in § 60.8(j), the results of the initial compliance test data, and shall submit, following the procedure specified in § 60.13(c)(2), the results of the performance evaluation of the CEMS conducted using the applicable performance specifications in appendix B. The owner or operator shall submit the maximum demonstrated MWC unit load and maximum demonstrated particulate matter control device temperature established during the dioxin/furan compliance test with the report of the results of the initial dioxin/furan compliance test.

* * * * *

(e)(1) The owner or operator of an affected facility located within a large MWC plant shall submit, following the procedure specified in § 60.7(c), annual compliance reports for sulfur dioxide, nitrogen oxide (if applicable), carbon monoxide, load level, and particulate matter control device temperature containing the information recorded under paragraphs (b)(1), (2)(ii), (4), (5), and (6) of this section for each pollutant or parameter. The hourly average values recorded under paragraph (b)(2)(i) of this section are not required to be included in the annual reports. Combustors firing a mixture of medical waste and other MSW shall also provide the information under paragraph (b)(15) of this section, as applicable, in each annual report. The owner or operator of an affected facility must submit, following the procedure specified in § 60.7(c), reports semiannually once the affected facility is subject to permitting requirements under Title V of the Act.

(2) The owner or operator shall submit, following the procedure specified in § 60.7(c), a semiannual report for any pollutant or parameter that does not comply with the pollutant or parameter limits specified in this subpart. Such report shall include the information recorded under paragraph (b)(3) of this section. For each of the dates reported, include the sulfur dioxide, nitrogen oxide, carbon monoxide, load level, and particulate matter control device temperature data, as applicable, recorded under paragraphs (b)(2)(ii)(A) through (D) of this section.

(3) Reports shall be submitted electronically no later than the 30th day following the end of the annual or semiannual period, as applicable.

(f)(1) The owner or operator of an affected facility located within a large MWC plant shall submit, following the procedure specified in § 60.7(c), annual compliance reports, as applicable, for opacity. The annual report shall list the percent of the affected facility operating time for the reporting period that the opacity CEMS was operating and collecting valid data. Once the unit is subject to permitting requirements under Title V of the Act, the owner or operator of an affected facility must submit these reports semiannually.

(2) The owner or operator shall submit, following the procedure specified in § 60.7(c), a semiannual report for all periods when the 6-minute average levels exceeded the opacity limit under § 60.52a. The semiannual report shall include all information recorded under paragraph (b)(3) of this section which pertains to opacity, and a listing of the 6-minute average opacity levels recorded under paragraph (b)(2)(i)(A) of this section, which exceeded the opacity limit.

(3) Reports shall be submitted electronically no later than the 30th day following the end of the annual or semiannual period, as applicable.

(g)(1) The owner or operator of an affected facility located within a large MWC plant shall submit, following the procedure specified in § 60.8(j), reports of all annual performance tests for particulate matter, dioxin/furan, and hydrogen chloride as recorded under paragraph (b)(7) of this section, as applicable, from the affected facility. For each annual dioxin/furan compliance test, the maximum demonstrated MWC unit load and maximum demonstrated particulate matter control device temperature shall be reported. Such reports shall be submitted when available and in no case later than the date of required submittal of the annual report specified under paragraphs (e) and (f) of this section, or within six months of the date the test was conducted, whichever is earlier.

(2) The owner or operator shall submit, following the procedure specified in § 60.8(j), a report of test results which document any particulate matter, dioxin/furan, and hydrogen chloride levels that were above the applicable pollutant limit. The report shall include the performance test results documenting the emission levels and shall include the corrective action taken. Such reports shall be submitted when available and in no case later than the date required for submittal of any semiannual report required in paragraphs (e) or (f) of this section, or within six months of the date the test was conducted, whichever is earlier.

* * * * *

(k) Any records required to be maintained by this subpart that are submitted electronically via the EPA's Central Data Exchange (CDX) may be maintained in electronic format.

Subpart Eb—Standards of Performance for Large Municipal Waste Combustors for Which Construction is Commenced After September 20, 1994 or for Which Modification or Reconstruction is Commenced After June 19, 1996

9. Section 60.50b is amended by adding paragraph (n)(11) to read as follows:

§ 60.50b Applicability and delegation of authority.

* * * * *

(n) * * *

(11) Approval of an alternative to any electronic reporting to the EPA required by this subpart.

* * * * *

10. Section 60.59b is amended by:

a. Revising paragraph (f) introductory text;

b. Revising paragraph (g) introductory text; and

c. Revising paragraphs (j) and (k).

The revisions read as follows:

§ 60.59b Reporting and recordkeeping requirements.

* * * * *

(f) The owner or operator of an affected facility shall submit the information specified in paragraphs (f)(1), (f)(2), and (f)(4) through (f)(6) of this section in the initial performance test report. The owner or operator shall submit the report following the procedure specified in § 60.8(j). The owner or operator of an affected facility shall submit the information specified in paragraph (f)(3) of this section following the procedure specified in § 60.13(c)(2).

* * * * *

(g) Following the first year of municipal waste combustor operation, the owner or operator of an affected facility shall submit, following the procedure specified in § 60.7(c), an annual report that includes the information specified in paragraphs (g)(1) through (g)(5) of this section, as applicable, no later than February 1 of each year following the calendar year in which the data were collected. (Once the unit is subject to permitting requirements under title V of the Act, the owner or operator of an affected facility must submit these reports semiannually. The reports must be submitted following the procedure specified in § 60.7(c).)

* * * * *

(j) All reports specified under paragraphs (a), (b), (c), (f), (g), (h), and (i) of this section shall be electronically submitted, when electronic submission is required by this subpart, and postmarked, when paper submission is required by this subpart, on or before the submittal dates specified under these paragraphs, and maintained onsite for a period of 5 years. Any records required to be maintained by this subpart that are submitted electronically via the EPA's Central Data Exchange (CDX) may be maintained in electronic format.

(k) All records specified under paragraphs (d) and (e) of this section shall be maintained onsite in either paper copy or electronic format.

* * * * *

Subpart Ec—Standards of Performance for New Stationary Sources: Hospital/Medical/Infectious Waste Incinerators

11. Section 60.50c is amended by:

a. Revising paragraphs (i)(4) and (i)(5); and

b. Adding paragraph (i)(6).

The revisions and addition read as follows:

§ 60.50c Applicability and delegation of authority.

* * * * *

(i) * * *

(4) Waiver of recordkeeping requirements;

(5) Performance test and data reduction waivers under § 60.8(b); and

(6) Approval of an alternative to any electronic reporting to the EPA required by this subpart.

* * * * *

12. Section 60.58c is amended by:

a. Revising paragraph (c)(1);

b. Revising paragraph (d) introductory text;

c. Revising paragraphs (d)(5) and (6);

d. Revising paragraphs (e) and (f); and

e. Removing paragraph (g).

The revisions read as follows:

§ 60.58c Reporting and recordkeeping requirements.

* * * * *

(c) * * *

(1) The initial performance test data as recorded under § 60.56c(b)(1) through (b)(14), as applicable. The owner or operator shall submit the results of the performance test following the procedure specified in § 60.8(j).

* * * * *

(d) An annual report shall be submitted 1 year following the submissions of the information in paragraph (c) of this section and subsequent reports shall be submitted no more than 12 months following the previous report (once the unit is subject to permitting requirements under title V of the Clean Air Act, the owner or operator of an affected facility must submit these reports semiannually). The report shall include the information specified in paragraphs (d)(1) through (11) of this section. The owner or operator shall submit the reports required by this paragraph to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

* * * * *

(5) Any information recorded under paragraphs (b)(3) through (b)(5) of this section for the calendar year preceding the year being reported, in order to provide the Administrator with a summary of the performance of the affected facility over a 2-year period. Starting with the second year of submitting these reports electronically, information for the preceding calendar year is not required.

(6) For each performance test conducted during the reporting period, if any performance test is conducted, the process unit(s) tested, the pollutant(s) tested, and the date that such performance test was conducted. Submit, following the procedure specified in § 60.8(j), the performance test report no later than the date that the annual report is submitted.

* * * * *

(e) The owner or operator of an affected facility shall submit semiannual reports containing any information recorded under paragraphs (b)(3) through (b)(5) of this section no later than 60 days following the reporting period. The first semiannual reporting period ends 6 months following the submission of information in paragraph (c) of this section. Subsequent reports shall be submitted no later than 6 calendar months following the previous report. The owner or operator shall submit the reports required by this paragraph to the EPA via the CEDRI. (CEDRI can be accessed through the EPA's CDX (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(f) All records specified under paragraph (b) of this section shall be maintained onsite in either paper copy or electronic format.

Subpart F—Standards of Performance for Portland Cement Plants

§ 60.64 [Amended]

13. Section 60.64 is amended by removing paragraph (d).

14. Section 60.65 is amended by:

a. Revising paragraphs (a) through (c); and

b. Adding paragraphs (d) and (e).

The revisions and additions read as follows:

§ 60.65 Recordkeeping and reporting requirements.

(a) Each owner or operator required to install a CPMS or CEMS under sections § 60.63(c) through (e) shall submit reports of excess emissions. The content of these reports must comply with § 60.7(c), and the reports must be submitted following the procedure specified in § 60.7(c). Notwithstanding the provisions of § 60.7(c), such reports shall be submitted semiannually.

(b) Each owner or operator of facilities subject to the provisions of § 60.63(c) through (e) shall submit semiannual reports of the malfunction information required to be recorded by § 60.7(b). These reports shall be submitted following the procedure specified in § 60.7(c) and shall include the frequency, duration, and cause of any incident resulting in deenergization of any device controlling kiln emissions or in the venting of emissions directly to the atmosphere.

(c) The requirements of this section remain in force until and unless the Agency, in delegating enforcement authority to a State under section 111(c) of the Clean Air Act, 42 U.S.C. 7411, approves reporting requirements or an alternative means of compliance surveillance adopted by such States. In that event, affected sources within the State will be relieved of the obligation to comply with this section, provided that they comply with the requirements established by the State. Electronic reporting to the EPA cannot be waived, and as such, the provisions of this paragraph do not relieve owners or operators of affected facilities of the requirement to submit the electronic reports required in this section to the EPA.

(d) Within 60 days after the date of completing each performance test (see § 60.8) required by this subpart, the owner or operator must submit the results of the performance test following the procedure specified in either paragraph (d)(1) or (d)(2) of this section. The owner or operator must include the information specified in paragraph (d)(3) of this section for PM performance test reports used to set a PM CPMS operating limit.

(1) For data collected using test methods supported by the EPA's Electronic Reporting Tool (ERT) as listed on the EPA's ERT Web site (http://www.epa.gov/ttn/chief/ert/index.html) at the time of the test, the owner or operator must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. Owners or operators who claim that some of the performance test information being submitted is confidential business information (CBI) must submit a complete file generated through the use of the EPA's ERT or an alternate electronic file consistent with the XML schema listed on the EPA's ERT Web site, including information claimed to be CBI on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For data collected using test methods that are not supported by the EPA's ERT as listed on the EPA's ERT Web site at the time of the test, the owner or operator must submit the results of the performance test to the Administrator at the appropriate address listed in § 60.4.

(3) For PM performance test reports used to set a PM CPMS operating limit, the electronic submission of the test report must also include the make and model of the PM CPMS instrument, serial number of the instrument, analytical principle of the instrument (e.g., beta attenuation), span of the instrument's primary analytical range, milliamp value equivalent to the instrument zero output, technique by which this zero value was determined, and the average milliamp signals corresponding to each PM compliance test run.

(e) Within 60 days after the date of completing each CEMS performance evaluation, as defined in § 63.2, the owner or operator must submit the results of the performance evaluation following the procedure specified in either paragraph (e)(1) or (e)(2) of this section.

(1) For performance evaluations of continuous monitoring systems measuring relative accuracy test audit (RATA) pollutants that are supported by the EPA's ERT as listed on the EPA's ERT Web site http://www.epa.gov/ttn/chief/ert/index.html) at the time of the test, the owner or operator must submit the results of the performance evaluation to the EPA via the CEDRI. (CEDRI can be accessed through the EPA's CDX (https://cdx.epa.gov/).) Performance evaluation data must be submitted in a file format generated through the use of the EPA's ERT or an alternate electronic file format consistent with the extensible markup language (XML) schema listed on the EPA's ERT Web site. Owners or operators who claim that some of the performance evaluation information being submitted is CBI must submit a complete file generated through the use of the EPA's ERT or an alternate electronic file consistent with the XML schema listed on the EPA's ERT Web site, including information claimed to be CBI on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For any performance evaluations of continuous monitoring systems measuring RATA pollutants that are not supported by the EPA's ERT as listed on the EPA's ERT Web site at the time of the test, the owner or operator must submit the results of the performance evaluation to the Administrator at the appropriate address listed in § 60.4.

15. Section 60.66 is amended by adding paragraph (b)(5) to read as follows:

§ 60.66 Delegation of authority.

* * * * *

(b) * * *

(5) Approval of an alternative to any electronic reporting to the EPA required by § 60.65.

Subpart Ga—Standards of Performance for Nitric Acid Plants for Which Construction, Reconstruction, or Modification Commenced After October 14, 2011

16. Section 60.76a is amended by adding paragraph (g) to read as follows:

§ 60.76a Recordkeeping.

* * * * *

(g) Any records required to be maintained by this subpart that are submitted electronically via the EPA's Central Data Exchange (CDX) may be maintained in electronic format.

17. Section 60.77a is amended by:

a. Revising paragraphs (a), (b) introductory text, (c) introductory text, and (f) introductory text; and

b. Removing and reserving paragraph (e).

The revisions read as follows:

§ 60.77a Reporting.

(a) The performance test data from the initial and subsequent performance tests must be submitted following the procedure specified in § 60.8(j). The data from the performance evaluations of the continuous monitors must be submitted following the procedure specified in § 60.13(c)(2).

(b) The following information must be submitted, following the procedure specified in 60.7(c), for each 30 operating day period where you were not in compliance with the emissions standard:

* * * * *

(c) You must also submit, following the procedure specified in § 60.7(c), the following whenever they occur:

* * * * *

(e) [Reserved]

(f) If a malfunction occurred during the reporting period, you must submit, following the procedure specified in § 60.7(c), a report that contains the following:

* * * * *

Subpart J—Standards of Performance for Petroleum Refineries

18. Section 60.107 is amended by:

a. Revising paragraphs (c) introductory text, and (f); and

b. Adding paragraph (h).

The revisions and addition read as follows:

§ 60.107 Reporting and recordkeeping requirements.

* * * * *

(c) Each owner or operator subject to § 60.104(b) shall submit a report except as provided by paragraph (d) of this section. Each owner or operator shall submit the information specified in paragraphs (c)(1) through (c)(6) of this section (except for the information required by paragraph (c)(4)(vi) of this section) to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted. The owner or operator shall submit the information required by (c)(4)(vi) of this section to the Administrator at the appropriate address listed in § 60.4.

* * * * *

(f) The owner or operator of an affected facility shall submit the reports required under this subpart to the Administrator semiannually for each six-month period. All semiannual reports shall be submitted electronically and-or postmarked by the 30th day following the end of each six-month period.

* * * * *

(h) Any records required to be maintained by this subpart that are submitted electronically via the EPA's CDX may be maintained in electronic format.

19. Section 60.109 is amended by adding paragraph (b)(3) to read as follows:

§ 60.109 Delegation of authority.

* * * * *

(b) * * *

(3) Approval of an alternative to any electronic reporting to the EPA required by this subpart.

Subpart Ja—Standards of Performance for Petroleum Refineries for Which Construction, Reconstruction, or Modification Commenced After May 14, 2007

20. Section 60.104a is amended by revising paragraph (b) to read as follows:

§ 60.104a Performance tests.

* * * * *

(b) The owner or operator of a FCCU or FCU that elects to monitor control device operating parameters according to the requirements in § 60.105a(b), to use bag leak detectors according to the requirements in § 60.105a(c), or to use COMS according to the requirements in § 60.105a(e) shall conduct a PM performance test at least once every 12 months and submit, following the procedure specified in § 60.8(j), a report of the results of each test.

* * * * *

21. Section 60.109a is amended by adding paragraph (b)(5) to read as follows:

§ 60.109a Delegation of authority.

* * * * *

(b) * * *

(5) Approval of an alternative to any electronic reporting to the EPA required by this subpart.

Subpart Ka—Standards of Performance for Storage Vessels for Petroleum Liquids for Which Construction, Reconstruction, or Modification Commenced After May 18, 1978, and Prior to July 23, 1984

22. Section 60.113a is amended by revising paragraph (a)(1)(i)(E) to read as follows:

§ 60.113a Testing and procedures.

(a) * * *

(1) * * *

(i) * * *

(E) If either the seal gap calculated in accord with paragraph (a)(1)(iii) of this section or the measured maximum seal gap exceeds the limitations specified by § 60.112a of this subpart, a report shall be submitted within 60 days of the date of measurements. The report shall identify the vessel and list each reason why the vessel did not meet the specifications of § 60.112a. The report shall also describe the actions necessary to bring the storage vessel into compliance with the specifications of § 60.112a. The owner or operator shall submit this report to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

* * * * *

Subpart Kb—Standards of Performance for Volatile Organic Liquid Storage Vessels (Including Petroleum Liquid Storage Vessels) for Which Construction, Reconstruction, or Modification Commenced After July 23, 1984

23. Section 60.115b is amended by:

a. Revising the introductory text;

b. Revising paragraph (a)(3);

c. Revising paragraph (b)(4);

d. Revising paragraph (d)(3); and

e. Adding paragraph (e).

The revisions and addition read as follows:

§ 60.115b Reporting and recordkeeping requirements.

The owner or operator of each storage vessel as specified in § 60.112b(a) shall keep records and furnish reports as required by paragraphs (a), (b), or (c) of this section depending upon the control equipment installed to meet the requirements of § 60.112b. The owner or operator shall keep copies of all reports and records required by this section, except for the record required by paragraph (c)(1) of this section, for at least 2 years. The record required by paragraph (c)(1) of this section will be kept for the life of the control equipment. Any records required to be maintained by this subpart that are submitted electronically via the EPA's Central Data Exchange (CDX) may be maintained in electronic format.

(a) * * *

(3) If any of the conditions described in § 60.113b(a)(2) are detected during the annual visual inspection required by § 60.113b(a)(2), a report shall be submitted, following the procedure specified in paragraph (e) of this section, within 30 days of the inspection. Each report shall identify the storage vessel, the nature of the defects, and the date the storage vessel was emptied or the nature of and date the repair was made.

* * * * *

(b) * * *

(4) After each seal gap measurement that detects gaps exceeding the limitations specified by § 60.113b(b)(4), submit, following the procedure specified in paragraph (e) of this section, a report to the Administrator within 30 days of the inspection. The report will identify the vessel and contain the information specified in paragraph (b)(2) of this section and the date the vessel was emptied or the repairs made and date of repair.

* * * * *

(d) * * *

(3) Semiannual reports of all periods recorded under § 60.115b(d)(2) in which the pilot flame was absent shall be submitted following the procedure specified in paragraph (e) of this section.

(e) Each owner or operator required to submit reports following the procedure specified in this paragraph must submit reports to the EPA via the Compliance and Emissions Data Reporting Interface (CEDRI). (CEDRI can be accessed through the EPA's CDX (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The report must be submitted by the deadline specified in this subpart, regardless of the method in which the report is submitted.

24. Section 60.117b is amended by revising paragraph (b) to read as follows:

§ 60.117b Delegation of authority.

* * * * *

(b) Authorities which will not be delegated to States: §§ 60.111b(f)(4), 60.114b, 60.116b(e)(3)(iii), 60.116b(e)(3)(iv), 60.116b(f)(2)(iii), and approval of an alternative to any electronic reporting to the EPA required by this subpart.

Subpart N—Standards of Performance for Primary Emissions From Basic Oxygen Process Furnaces for Which Construction Is Commenced After June 11, 1973

25. Section 60.143 is amended by revising paragraph (c) to read as follows:

§ 60.143 Monitoring of operations.

* * * * *

(c) Any owner or operator subject to the requirements of paragraph (b) of this section shall report, on a semiannual basis, all measurements over any 3-hour period that average more than 10 percent below the average levels maintained during the most recent performance test conducted under § 60.8 in which the affected facility demonstrated compliance with the mass standards under § 60.142(a)(1), (b)(1)(i), or (b)(2)(i). The accuracy of the respective measurements, not to exceed the values specified in paragraphs (b)(1) and (b)(2) of this section, may be taken into consideration when determining the measurement results that must be reported. Each such report of measurements shall be submitted to the EPA via the Compliance and Emissions Data Reporting Interface (CEDRI). (CEDRI can be accessed through the EPA's Central Data Exchange (CDX) (https://cdx.epa.gov/).) You shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

Subpart Na—Standards of Performance for Secondary Emissions From Basic Oxygen Process Steelmaking Facilities for Which Construction Is Commenced After January 20, 1983

26. Section 60.143a is amended by:

a. Revising paragraphs (d) and (e); and

b. Adding paragraph (f).

The revisions and addition read as follows:

§ 60.143a Monitoring of operations.

* * * * *

(d) Each owner or operator subject to the requirements of paragraph (a) of this section shall report, following the procedure specified in paragraph (f) of this section, on a semiannual basis all measurements of exhaust ventilation rates or levels over any 3-hour period that average more than 10 percent below the average rates or levels of exhaust ventilation maintained during the most recent performance test conducted under § 60.8 in which the affected facility demonstrated compliance with the standard under § 60.142a(a)(2). The accuracy of the respective measurements, not to exceed the values specified in paragraph (c) of this section, may be considered when determining the measurement results that must be reported.

(e) If a scrubber primary emission control device is used to collect secondary emissions, the owner or operator shall report, following the procedure specified in paragraph (f) of this section, on a semiannual basis all measurements of exhaust ventilation rate over any 3-hour period that average more than 10 percent below the average levels maintained during the most recent performance test conducted under § 60.8 in which the affected facility demonstrated compliance with the standard under § 60.142(a)(1).

(f) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The report must be submitted by the deadline specified in this subpart, regardless of the method in which the report is submitted.

Subpart O—Standards of Performance for Sewage Treatment Plants

27. Section 60.155 is amended by revising paragraph (a) introductory text to read as follows:

§ 60.155 Reporting.

(a) The owner or operator of any multiple hearth, fluidized bed, or electric sludge incinerator subject to the provisions of this subpart shall submit a report semi-annually to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted. The semi-annual report shall contain the following:

* * * * *

28. Section 60.156 is amended by revising paragraph (b) to read as follows:

§ 60.156 Delegation of authority.

* * * * *

(b) Authorities which will not be delegated to States: § 60.153(e) and approval of an alternative to any electronic reporting to the EPA required by this subpart.

Subpart S—Standards of Performance for Primary Aluminum Reduction Plants

29. Section 60.192 is amended by revising paragraph (b) to read as follows:

§ 60.192 Standard for fluorides.

* * * * *

(b) Within 30 days of any performance test which reveals emissions which fall between the 1.0 kg/Mg and 1.3 kg/Mg levels in paragraph (a)(1) of this section or between the 0.95 kg/Mg and 1.25 kg/Mg levels in paragraph (a)(2) of this section, the owner or operator shall submit a report indicating whether all necessary control devices were on-line and operating properly during the performance test, describing the operating and maintenance procedures followed, and setting forth any explanation for the excess emissions. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

Subpart Y—Standards of Performance for Coal Preparation and Processing Plants

30. Section 60.258 is amended by revising paragraph (d) to read as follows:

§ 60.258 Reporting and recordkeeping.

* * * * *

(d) Within 60 days after the date of completing each continuous monitoring system performance evaluation, as defined in § 63.2, the owner or operator must submit the results of the performance evaluation following the procedure specified in either paragraph (d)(1) or (d)(2) of this section.

(1) For performance evaluations of continuous monitoring systems measuring relative accuracy test audit (RATA) pollutants that are supported by the EPA's Electronic Reporting Tool (ERT) as listed on the EPA's ERT Web site (http://www.epa.gov/ttn/chief/ert/index.html) at the time of the test, the owner or operator must submit the results of the performance evaluation to the EPA via the Compliance and Emissions Data Reporting Interface (CEDRI). (CEDRI can be accessed through the EPA's Central Data Exchange (CDX) (https://cdx.epa.gov/).) Performance evaluation data must be submitted in a file format generated through the use of the EPA's ERT or an alternate electronic file format consistent with the extensible markup language (XML) schema listed on the EPA's ERT Web site. If you claim that some of the performance evaluation information being submitted is Confidential Business Information (CBI), you must submit a complete file generated through the use of the EPA's ERT or an alternate electronic file consistent with the XML schema listed on the EPA's ERT Web site, including information claimed to be CBI on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For any performance evaluations of continuous monitoring systems measuring RATA pollutants that are not supported by the EPA's ERT as listed on the EPA's ERT Web site at the time of the test, the owner or operator must submit the results of the performance evaluation to the Administrator at the appropriate address listed in § 60.4.

Subpart AA—Standards of Performance for Steel Plants: Electric Arc Furnaces Constructed After October 21, 1974, and On or Before August 17, 1983

31. Section 60.276 is amended by:

a. Revising paragraph (a);

b. Revising paragraph (c) introductory text; and

c. Adding paragraph (f).

The revisions and addition read as follows:

§ 60.276 Recordkeeping and reporting requirements.

(a) Operation at a furnace static pressure that exceeds the value established under § 60.274(g) and either operation of control system fan motor amperes at values exceeding ±15 percent of the value established under § 60.274(c) or operation at flow rates lower than those established under § 60.274(c) may be considered by the Administrator to be unacceptable operation and maintenance of the affected facility. Operation at such values shall be reported semiannually to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

* * * * *

(c) For the purpose of this subpart, the owner or operator shall conduct the demonstration of compliance with § 60.272(a) of this subpart and submit, following the procedure specified in § 60.8(j), a report of the results of the performance test. This report shall include the following information:

* * * * *

(f) Any records required to be maintained by this subpart that are submitted electronically via the EPA's CDX may be maintained in electronic format.

Subpart AAa—Standards of Performance for Steel Plants: Electric Arc Furnaces and Argon-Oxygen Decarburization Vessels Constructed After August 17, 1983

32. Section 60.276a is amended by:

a. Revising paragraphs (b) through (d);

b. Revising paragraph (f) introductory text; and

c. Adding paragraphs (i) and (j).

The revisions and additions read as follows:

§ 60.276a Recordkeeping and reporting requirements.

* * * * *

(b) Each owner or operator shall submit semi-annually, following the procedure specified in paragraph (i) of this section, a report of exceedances of the control device opacity. For the purposes of these reports, exceedances are defined as all 6-minute periods during which the average opacity is 3 percent or greater.

(c) Operation at a furnace static pressure that exceeds the value established under § 60.274a(g) and either operation of control system fan motor amperes at values exceeding ±15 percent of the value established under § 60.274a(c) or operation at flow rates lower than those established under § 60.274a(c) may be considered by the Administrator to be unacceptable operation and maintenance of the affected facility. Operation at such values shall be reported semiannually, following the procedure specified in paragraph (i) of this section.

(d) The requirements of this section remain in force until and unless the EPA, in delegating enforcement authority to a State under section 111(c) of the Act, approves reporting requirements or an alternative means of compliance surveillance adopted by such State. In that event, affected sources within the State will be relieved of the obligation to comply with this section, provided that they comply with the requirements established by the State. Electronic reporting to the EPA cannot be waived, and as such, the provisions of this paragraph do not relieve owners or operators of affected facilities of the requirement to submit the electronic reports required in this section to the EPA.

* * * * *

(f) For the purpose of this subpart, the owner or operator shall conduct the demonstration of compliance with § 60.272a(a) of this subpart and submit, following the procedure specified in § 60.8(j), a report of the results of the test. This report shall include the following information:

* * * * *

(i) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The report must be submitted by the deadline specified in this subpart, regardless of the method in which the report is submitted.

(j) Any records required to be maintained by this subpart that are submitted electronically via the EPA's CDX may be maintained in electronic format.

Subpart BBa—Standards of Performance for Kraft Pulp Mill Affected Sources for Which Construction, Reconstruction, or Modification Commenced After May 23, 2013

33. Section 60.287a is amended by adding paragraph (d) to read as follows:

§ 60.287a Recordkeeping.

* * * * *

(d) Any records required to be maintained by this subpart that are submitted electronically via the EPA's CDX may be maintained in electronic format.

34. Section 60.288a is amended by:

a. Revising paragraphs (b) and (c); and

b. Revising paragraph (d) introductory text.

The revisions read as follows:

§ 60.288a Reporting.

* * * * *

(b) Within 60 days after the date of completing each performance test (see § 60.8) required by this subpart, you must submit the results of the performance test following the procedure specified in either paragraph (b)(1) or (b)(2) of this section.

(1) For data collected using test methods supported by the EPA's Electronic Reporting Tool (ERT) as listed on the EPA's ERT Web site (http://www.epa.gov/ttn/chief/ert/index.html) at the time of the test, you must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. If you claim that some of the performance test information being submitted is confidential business information (CBI), you must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For data collected using test methods that are not supported by the EPA's ERT as listed on the EPA's ERT Web site at the time of the test, you must submit the results of the performance test to the Administrator at the appropriate address listed in § 60.4.

(c) Within 60 days after the date of completing each CEMS performance evaluation, as defined in § 63.2, you must submit the results of the performance evaluation following the procedure specified in either paragraph (c)(1) or (c)(2) of this section.

(1) For performance evaluations of continuous monitoring systems measuring relative accuracy test audit (RATA) pollutants that are supported by the EPA's ERT as listed on the EPA's ERT Web site (http://www.epa.gov/ttn/chief/ert/index.html) at the time of the test, submit the results of the performance evaluation to the EPA via the CEDRI. (CEDRI can be accessed through the EPA's CDX (https://cdx.epa.gov/).) Performance evaluation data must be submitted in a file format generated through the use of the EPA's ERT or an alternate electronic file format consistent with the extensible markup language (XML) schema listed on the EPA's ERT Web site. If you claim that some of the performance evaluation information being submitted is CBI, you must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(2) For any performance evaluations of continuous monitoring systems measuring RATA pollutants that are not supported by the EPA's ERT as listed on the EPA's ERT Web site at the time of the test, submit the results of the performance evaluation to the Administrator at the appropriate address listed in § 60.4.

(d) If a malfunction occurred during the reporting period, you must submit, following the procedure specified in § 60.7(c), a report that contains the following:

* * * * *

Subpart EE—Standards of Performance for Surface Coating of Metal Furniture

35. Section 60.315 is amended by:

a. Revising paragraph (a) introductory text;

b. Revising paragraph (b);

c. Revising paragraph (c) introductory text; and

d. Revising paragraph (d).

The revisions read as follows:

§ 60.315 Reporting and recordkeeping requirements.

(a) The reporting requirements of § 60.8 apply only to the initial performance test. Each owner or operator subject to the provisions of this subpart shall include the following data in the report of the initial performance test required under § 60.8:

* * * * *

(b) Following the initial performance test, the owner or operator of an affected facility shall identify, record, and submit a report every calendar quarter of each instance in which the volume-weighted average of the total mass of VOCs emitted to the atmosphere per volume of applied coating solids (N) is greater than the limit specified under § 60.312. If no such instances have occurred during a particular quarter, a report stating this shall be submitted semiannually. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(c) Following the initial performance test, the owner or operator of an affected facility shall identify, record, and submit, at the frequency and following the procedure specified in § 60.7(c), the following:

* * * * *

(d) Each owner or operator subject to the provisions of this subpart shall maintain at the source, for a period of at least 2 years, records of all data and calculations used to determine VOC emissions from each affected facility. Where compliance is achieved through the use of thermal incineration, each owner or operator shall maintain, at the source, daily records of the incinerator combustion chamber temperature. If catalytic incineration is used, the owner or operator shall maintain at the source daily records of the gas temperature, both upstream and downstream of the incinerator catalyst bed. Where compliance is achieved through the use of a solvent recovery system, the owner or operator shall maintain at the source daily records of the amount of solvent recovered by the system for each affected facility. Any records required to be maintained by this subpart that are submitted electronically via the EPA's CDX may be maintained in electronic format.

Subpart GG—Standards of Performance for Stationary Gas Turbines

36. Section 60.334 is amended by revising paragraph (j)(5) to read as follows:

§ 60.334 Monitoring of operations.

* * * * *

(j) * * *

(5) All reports required under § 60.7(c) shall be submitted electronically by the 30th day following the end of each 6-month period.

Subpart LL—Standards of Performance for Metallic Mineral Processing Plants

37. Section 60.385 is amended by:

a. Revising paragraph (a); and

b. Revising paragraphs (d) and (e).

The revisions read as follows:

§ 60.385 Recordkeeping and reporting requirements.

(a) The owner or operator subject to the provisions of this subpart shall conduct a performance test and submit a report of the results of the test following the procedure specified in § 60.8(j).

* * * * *

(d) The reports required under paragraph (c) shall be submitted electronically within 30 days following the end of the second and fourth calendar quarters. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(e) The requirements of this subsection remain in force until and unless the Agency, in delegating enforcement authority to a State under section 111(c) of the Act, approves reporting requirements or an alternative means of compliance surveillance adopted by such States. In that event, affected sources within the State will be relieved of the obligation to comply with this subsection, provided that they comply with requirements established by the State. Electronic reporting to the EPA cannot be waived, and as such, the provisions of this paragraph do not relieve owners or operators of affected facilities of the requirement to submit the electronic reports required in this section to the EPA.

Subpart MM—Standards of Performance for Automobile and Light Duty Truck Surface Coating Operations

38. Section 60.395 is amended by revising paragraph (b) and paragraph (c) introductory text to read as follows:

§ 60.395 Reporting and recordkeeping requirements.

* * * * *

(b) Following the initial performance test, the owner or operator of an affected facility shall identify, record, and submit a report every calendar quarter of each instance in which the volume-weighted average of the total mass of VOC's emitted to the atmosphere per volume of applied coating solids (N) is greater than the limit specified under § 60.392. If no such instances have occurred during a particular quarter, a report stating this shall be submitted semiannually. Where compliance is achieved through the use of a capture system and control device, the volume-weighted average after the control device should be reported. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(c) Where compliance with § 60.392 is achieved through the use of incineration, the owner or operator shall continuously record the incinerator combustion temperature during coating operations for thermal incineration or the gas temperature upstream and downstream of the incinerator catalyst bed during coating operations for catalytic incineration. The owner or operator shall submit, at the frequency and following the procedure specified in § 60.7(c), a report of the information defined below.

* * * * *

Subpart NN—Standards of Performance for Phosphate Rock Plants

39. Section 60.403 is amended by revising paragraph (f) to read as follows:

§ 60.403 Monitoring of emissions and operations.

* * * * *

(f) Any owner or operator subject to the requirements under paragraph (c) of this section shall report, at the frequency and following the procedure specified in § 60.7(c), all measurement results that are less than 90 percent of the average levels maintained during the most recent performance test conducted under § 60.8 in which the affected facility demonstrated compliance with the standard under § 60.402.

Subpart QQ—Standards of Performance for the Graphic Arts Industry: Publication Rotogravure Printing

40. Section 60.433 is amended by revising paragraph (e)(6) to read as follows:

§ 60.433 Performance test and compliance provisions.

* * * * *

(e) * * *

(6) The owner or operator of the existing facility (or facilities) shall submit, following the procedure specified in § 60.8(j), a report of the results of the emission test.

* * * * *

Subpart RR—Standards of Performance for Pressure Sensitive Tape and Label Surface Coating Operations

41. Section 60.447 is revised to read as follows:

§ 60.447 Reporting requirements.

(a) For all affected facilities subject to compliance with § 60.442, the performance test data and results from the performance test shall be submitted as specified in § 60.8(j) of the General Provisions (40 CFR part 60, subpart A).

(b) Following the initial performance test, the owner or operator of each affected facility shall submit quarterly reports of exceedances of the VOC emission limits specified in § 60.442. If no such exceedances occur during a particular quarter, a report stating this shall be submitted semiannually. These quarterly and semiannual reports shall be submitted to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(c) The owner or operator of each affected facility shall also submit reports, at the frequency and following the procedure specified in § 60.7(c), when the incinerator temperature drops as defined under § 60.443(e). If no such periods occur, the owner or operator shall state this in the report.

(d) The requirements of this subsection remain in force until and unless the EPA, in delegating enforcement authority to a State under section 111(c) of the Act, approves reporting requirements or an alternative means of compliance surveillance adopted by such States. In that event, affected sources within the State will be relieved of the obligation to comply with this subsection, provided that they comply with the requirements established by the State. Electronic reporting to the EPA cannot be waived, and as such, the provisions of this paragraph do not relieve owners or operators of affected facilities of the requirement to submit the electronic reports required in this section to the EPA.

Subpart SS—Standards of Performance for Industrial Surface Coating: Large Appliances

42. Section 60.455 is amended by:

a. Revising paragraph (a) introductory text;

b. Revising paragraph (b);

c. Revising paragraph (c) introductory text; and

d. Revising paragraph (d).

The revisions read as follows:

§ 60.455 Reporting and recordkeeping requirements.

(a) The reporting requirements of § 60.8 apply only to the initial performance test. Each owner or operator subject to the provisions of this subpart shall include the following data in the report of the initial performance test required under § 60.8:

* * * * *

(b) Following the initial performance test, the owner or operator of an affected facility shall identify, record, and submit a report every calendar quarter of each instance in which the volume-weighted average of the total mass of VOC's emitted to the atmosphere per volume of applied coating solids (N) is greater than the limit specified under § 60.452. If no such instances have occurred during a particular quarter, a report stating this shall be submitted semiannually. These quarterly and semiannual reports shall be submitted to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(c) Following the initial performance test, the owner or operator of an affected facility shall identify, record, and submit, at the frequency and following the procedure specified in § 60.7(c), the following:

* * * * *

(d) Each owner or operator subject to the provisions of this subpart shall maintain at the source, for a period of at least 2 years, records of all data and calculations used to determine VOC emissions from each affected facility. Where compliance is achieved through the use of thermal incineration, each owner or operator shall maintain at the source daily records of the incinerator combustion chamber temperature. If catalytic incineration is used, the owner or operator shall maintain at the source daily records of the gas temperature, both upstream and downstream of the incinerator catalyst bed. Where compliance is achieved through the use of a solvent recovery system, the owner or operator shall maintain at the source daily records of the amount of solvent recovered by the system for each affected facility. Any records required to be maintained by this subpart that are submitted electronically via the EPA's CDX may be maintained in electronic format.

Subpart TT—Standards of Performance for Metal Coil Surface Coating

43. Section 60.465 is amended by revising paragraphs (c) through (e) to read as follows:

§ 60.465 Reporting and recordkeeping requirements.

* * * * *

(c) Following the initial performance test, the owner or operator of an affected facility shall identify, record, and submit a report every calendar quarter of each instance in which the volume-weighted average of the local mass of VOC's emitted to the atmosphere per volume of applied coating solids (N) is greater than the limit specified under § 60.462. If no such instances have occurred during a particular quarter, a report stating this shall be submitted semiannually. Each owner or operator of an affected facility shall submit such quarterly and semiannual reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(d) The owner or operator of each affected facility shall also submit reports, at the frequency and following the procedure specified in § 60.7(c), when the incinerator temperature drops as defined under § 60.464(c). If no such periods occur, the owner or operator shall state this in the report.

(e) Each owner or operator subject to the provisions of this subpart shall maintain at the source, for a period of at least 2 years, records of all data and calculations used to determine monthly VOC emissions from each affected facility and to determine the monthly emission limit, where applicable. Where compliance is achieved through the use of thermal incineration, each owner or operator shall maintain, at the source, daily records of the incinerator combustion temperature. If catalytic incineration is used, the owner or operator shall maintain at the source daily records of the gas temperature, both upstream and downstream of the incinerator catalyst bed. Any records required to be maintained by this subpart that are submitted electronically via the EPA's CDX may be maintained in electronic format.

Subpart VV—Standards of Performance for Equipment Leaks of VOC in the Synthetic Organic Chemicals Manufacturing Industry for Which Construction, Reconstruction, or Modification Commenced After January 5, 1981, and on or Before November 7, 2006

44. Section 60.486 is amended by revising paragraph (a)(1) to read as follows:

§ 60.486 Recordkeeping requirements.

(a)(1) Each owner or operator subject to the provisions of this subpart shall comply with the recordkeeping requirements of this section. Any records required to be maintained by this subpart that are submitted electronically via the EPA's Central Data Exchange (CDX) may be maintained in electronic format.

* * * * *

45. Section 60.487 is amended by revising paragraphs (a) and (f) to read as follows:

§ 60.487 Reporting requirements.

(a) Beginning six months after the initial startup date, each owner or operator subject to the provisions of this subpart shall submit semiannual reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

* * * * *

(f) The requirements of paragraphs (a) through (c) of this section remain in force until and unless the EPA, in delegating enforcement authority to a State under section 111(c) of the Act, approves reporting requirements or an alternative means of compliance surveillance adopted by such State. In that event, affected sources within the State will be relieved of the obligation to comply with the requirements of paragraphs (a) through (c) of this section, provided that they comply with the requirements established by the State. Electronic reporting to the EPA cannot be waived, and as such, the provisions of this paragraph do not relieve owners or operators of affected facilities of the requirement to submit the electronic reports required in this section to the EPA.

Subpart VVa—Standards of Performance for Equipment Leaks of VOC in the Synthetic Organic Chemicals Manufacturing Industry for Which Construction, Reconstruction, or Modification Commenced After November 7, 2006

46. Section 60.486a is amended by revising paragraph (a)(1) to read as follows:

§ 60.486a Recordkeeping requirements.

(a)(1) Each owner or operator subject to the provisions of this subpart shall comply with the recordkeeping requirements of this section. Any records required to be maintained by this subpart that are submitted electronically via the EPA's Central Data Exchange (CDX) may be maintained in electronic format.

* * * * *

47. Section 60.487a is amended by revising paragraphs (a) and (f) to read as follows:

§ 60.487a Reporting requirements.

(a) Beginning 6 months after the initial startup date, each owner or operator subject to the provisions of this subpart shall submit semiannual reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

* * * * *

(f) The requirements of paragraphs (a) through (c) of this section remain in force until and unless the EPA, in delegating enforcement authority to a state under section 111(c) of the CAA, approves reporting requirements or an alternative means of compliance surveillance adopted by such state. In that event, affected sources within the state will be relieved of the obligation to comply with the requirements of paragraphs (a) through (c) of this section, provided that they comply with the requirements established by the state. Electronic reporting to the EPA cannot be waived, and as such, the provisions of this paragraph do not relieve owners or operators of affected facilities of the requirement to submit the electronic reports required in this section to the EPA.

Subpart WW—Standards of Performance for the Beverage Can Surface Coating Industry

48. Section 60.495 is amended by:

a. Revising paragraph (a) introductory text;

b. Revising paragraph (b);

c. Revising paragraph (c) introductory text; and

d. Revising paragraphs (d) and (e).

The revisions read as follows:

§ 60.495 Reporting and recordkeeping requirements.

(a) The owner or operator of an affected facility shall include the following data in the initial compliance report required under § 60.8.

* * * * *

(b) Following the initial performance test, each owner or operator shall identify, record, and submit quarterly reports of each instance in which the volume-weighted average of the total mass of VOC per volume of coating solids, after the control device, if capture devices and control systems are used, is greater than the limit specified under § 60.492. If no such instances occur during a particular quarter, a report stating this shall be submitted semiannually. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted.

(c) Following the initial performance test, the owner or operator of an affected facility shall identify, record, and submit, at the frequency and following the procedure specified in § 60.7(c), the following:

* * * * *

(d) Each owner or operator subject to the provisions of this subpart shall maintain at the source, for a period of at least 2 years, records of all data and calculations used to determine VOC emissions from each affected facility in the initial and monthly performance tests. Where compliance is achieved through the use of thermal incineration, each owner or operator shall maintain, at the source, daily records of the incinerator combustion chamber temperature. If catalytic incineration is used, the owner or operator shall maintain at the source daily records of the gas temperature, both upstream and downstream of the incinerator catalyst bed. Where compliance is achieved through the use of a solvent recovery system, the owner or operator shall maintain at the source daily records of the amount of solvent recovered by the system for each affected facility. Any records required to be maintained by this subpart that are submitted electronically via the EPA's CDX may be maintained in electronic format.

(e) The requirements of this section remain in force until and unless the EPA, in delegating enforcement authority to a State under section 111(c) of the Act, approves reporting requirements or an alternative means of compliance surveillance adopted by such State. In that event, affected facilities within the State will be relieved of the obligation to comply with this subsection, provided that they comply with the requirements established by the State. Electronic reporting to the EPA cannot be waived, and as such, the provisions of this paragraph do not relieve owners or operators of affected facilities of the requirement to submit the electronic reports required in this section to the EPA.

Subpart AAA—Standards of Performance for New Residential Wood Heaters

49. Section 60.539b is amended by revising paragraph (b) to read as follows:

§ 60.539b General provisions exclusions.

* * * * *

(b) Section 60.8(a), (c), (d), (e), (f), and (j) and

* * * * *

Subpart BBB—Standards of Performance for the Rubber Tire Manufacturing Industry

50. Section 60.545 is amended by adding paragraph (g) to read as follows:

§ 60.545 Recordkeeping requirements.

* * * * *

(g) Any records required to be maintained by this subpart that are submitted electronically via the EPA's Central Data Exchange (CDX) may be maintained in electronic format.

51. Section 60.546 is amended by:

a. Revising paragraph (c) introductory text;

b. Revising paragraph (f) introductory text;

c. Revising paragraph (g);

d. Revising paragraph (j); and

e. Adding paragraph (k).

The revisions and addition read as follows:

§ 60.546 Reporting requirements.

* * * * *

(c) Each owner or operator subject to the provisions of this subpart shall submit, following the procedure specified in § 60.8(j), the results of all initial performance tests and the results of the performance tests required under § 60.543(b)(2) and (b)(3). The following data shall be included in the report for each of the above performance tests:

* * * * *

(f) Once every 6 months each owner or operator subject to the provisions of § 60.545 shall report, following the procedure specified in paragraph (k) of this section, as applicable:

* * * * *

(g) The requirements for semiannual reports remain in force until and unless the EPA, in delegating enforcement authority to a State under Section 111(c) of the Act, approves reporting requirements or an alternative means of compliance surveillance adopted by such State. In that event, affected facilities within the State will be relieved of the obligation to comply with these requirements, provided that they comply with the requirements established by the State. Electronic reporting to the EPA cannot be waived, and as such, the provisions of this paragraph do not relieve owners or operators of affected facilities of the requirement to submit the electronic reports required in this section to the EPA.

* * * * *

(j) The owner or operator of each tread end cementing operation and each green tire spraying (inside and/or outside) operation using water-based sprays containing less than 1.0 percent, by weight, of VOC as described in § 60.543(b)(1) shall submit, following the procedure specified in paragraph (k) of this section, within 60 days initially and annually thereafter, formulation data or Method 24 results to verify the VOC content of the water-based sprays in use. If the spray formulation changes before the end of the 12-month period, formulation data or Method 24 results to verify the VOC content of the spray shall be reported within 30 days of the change.

(k) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The report must be submitted by the deadline specified in this subpart, regardless of the method in which the report is submitted.

52. Section 60.548 is amended by revising paragraph (b) to read as follows:

§ 60.548 Delegation of authority.

* * * * *

(b) Authority which will not be delegated to States: § 60.543(c)(2)(ii)(B) and approval of an alternative to any electronic reporting to the EPA required by this subpart.

Subpart DDD—Standards of Performance for Volatile Organic Compound (VOC) Emissions From the Polymer Manufacturing Industry

53. Section 60.565 is amended by:

a. Revising paragraph (a) introductory text;

b. Revising paragraph (b)(1);

c. Revising paragraph (k) introductory text;

d. Revising paragraph (m); and

e. Adding paragraphs (n) and (o).

The revisions and additions read as follows:

§ 60.565 Reporting and recordkeeping requirements.

(a) Each owner or operator subject to the provisions of this subpart shall keep an up-to-date, readily-accessible record of the following information measured during each performance test and include the following information in the report of the initial performance test, submitted following the procedure in § 60.8(j), in addition to the results of such performance tests. Where a control device is used to comply with § 60.562-1(a)(1)(i)(D) only, a report containing performance test data need not be submitted, but a report containing the information in § 60.565(a)(11) is required to be submitted following the procedure specified in paragraph (n) of this section. Where a boiler or process heater with a design heat input capacity of 150 million Btu/hour or greater is used to comply with § 60.562-1(a), a report containing performance test data need not be submitted, but a report containing the information in § 60.565(a)(2)(i) is required to be submitted following the procedure specified in paragraph (n) of this section. The same information specified in this section shall be submitted, following the procedure specified in § 60.8(j), in the reports of all subsequently required performance tests where either the emission control efficiency of a combustion device or the outlet concentration of TOC (minus methane and ethane) is determined.

* * * * *

(b)(1) Each owner or operator subject to the provisions of this subpart shall submit an engineering report describing in detail the vent system used to vent each affected vent stream to a control device. This report shall include all valves and vent pipes that could vent the stream to the atmosphere, thereby bypassing the control device, and identify which valves are car-sealed opened and which valves are car-sealed closed. Unless the owner or operator submits an initial performance test electronically to the EPA via the EPA's Central Data Exchange (CDX) or if the owner or operator is complying with § 60.562-1(a)(1)(i)(D), the engineering report shall be submitted with the initial performance test. If the owner or operator submits an initial performance test electronically to the EPA's CDX or if the owner or operator is complying with § 60.562-1(a)(1)(i)(D), the engineering report shall be submitted as a separate report to the Administrator at the appropriate address listed in § 60.4.

* * * * *

(k) Each owner or operator that seeks to comply with the requirements of this subpart by complying with the uncontrolled threshold emission rate cutoff provision of §§ 60.560 (d) and (e), the individual stream exemptions of § 60.560(g), or the requirements of § 60.562-1 shall submit, following the procedure specified in paragraph (n) of this section, semiannual reports of the following recorded information, as applicable. The initial report must be submitted within 6 months after the initial start-up date.

* * * * *

(m) The requirements of this subsection remain in force until and unless EPA, in delegating enforcement authority to a State under section 111(c) of the Act, approves alternative reporting requirements or means of compliance surveillance adopted by such State. In that event, affected sources within the State will be relieved of the obligation to comply with this subsection, provided that they comply with the requirements established by the State. Electronic reporting to the EPA cannot be waived, and as such, the provisions of this paragraph do not relieve owners or operators of affected facilities of the requirement to submit the electronic reports required in this section to the EPA.

(n) Each owner or operator required to submit reports following the procedure specified in this paragraph must submit reports to the EPA via the Compliance and Emissions Data Reporting Interface (CEDRI). (CEDRI can be accessed through the EPA's CDX (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

(o) Any records required to be maintained by this subpart that are submitted electronically via the EPA's CDX may be maintained in electronic format.

54. Section 60.566 is amended by revising paragraph (b) to read as follows:

§ 60.566 Delegation of authority.

* * * * *

(b) Authority which will not be delegated to States: § 60.562-2(c) and approval of an alternative to any electronic reporting to the EPA required by this subpart.

Subpart FFF—Standards of Performance for Flexible Vinyl and Urethane Coating and Printing

55. Section 60.585 is amended by:

a. Revising paragraph (a); and

b. Revising paragraphs (c) and (d).

The revisions read as follows:

§ 60.585 Reporting requirements.

(a) For all affected facilities subject to compliance with § 60.582, the performance test data and results from the performance test shall be submitted as specified in § 60.8(j).

* * * * *

(c) The reports required under paragraph (b) of this section shall be submitted electronically within 30 days following the end of the second and fourth calendar quarters. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The reports must be submitted by the deadlines specified in this subpart, regardless of the method in which the reports are submitted.

(d) The requirements of this subsection remain in force until and unless the Agency, in delegating enforcement authority to a State under section 111(c) of the Act, approves reporting requirements or an alternative means of compliance surveillance adopted by such States. In that event, affected sources within the State will be relieved of the obligation to comply with this subsection, provided that they comply with requirements established by the State. Electronic reporting to the EPA cannot be waived, and as such, the provisions of this paragraph do not relieve owners or operators of affected facilities of the requirement to submit the electronic reports required in this section to the EPA.

Subpart HHH—Standards of Performance for Synthetic Fiber Production Facilities

56. Section 60.604 is amended by:

a. Revising paragraph (a) introductory text;

b. Revising paragraph (a)(2);

c. Revising paragraphs (b) and (c); and

d. Adding paragraph (d).

The revisions and addition read as follows:

§ 60.604 Reporting requirements.

(a) The owner or operator of an affected facility shall submit reports of the following:

* * * * *

(2) The results of subsequent performance tests that indicate that VOC emissions exceed the standards in § 60.602. These reports shall be submitted, following the procedure specified in § 60.8(j), quarterly at 3-month intervals after the initial performance test. If no exceedances occur during a particular quarter, a report stating this shall be submitted, following the procedure specified in paragraph (d) of this section, semiannually.

(b) Solvent-spun synthetic fiber producing facilities exempted from these standards in § 60.600(a) (those producing less than 500 Mg (551 ton) annually) shall submit, following the procedure specified in paragraph (d) of this section, a report within 30 days whenever extruded fiber for the preceding 12 calendar months exceeds 500 Mg (551 ton).

(c) The requirements of this section remain in force until and unless the EPA, in delegating enforcement authority to a State under section 111(c) of the Act, approves reporting requirements or an alternate means of compliance surveillance adopted by such State. In that event, affected sources within the State will be relieved of the obligation to comply with this section, provided that they comply with the requirements established by the State. Electronic reporting to the EPA cannot be waived, and as such, the provisions of this paragraph do not relieve owners or operators of affected facilities of the requirement to submit the electronic reports required in this section to the EPA.

(d) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

Subpart III—Standards of Performance for Volatile Organic Compound (VOC) Emissions From the Synthetic Organic Chemical Manufacturing Industry (SOCMI) Air Oxidation Unit Processes

57. Section 60.615 is amended by:

a. Revising paragraph (b) introductory text;

b. Revising paragraph (j) introductory text;

c. Revising paragraph (k); and

d. Adding paragraphs (m) and (n).

The revisions and additions read as follows:

§ 60.615 Reporting and recordkeeping requirements.

* * * * *

(b) Each owner or operator subject to the provisions of this subpart shall keep up-to-date, readily accessible records of the following data measured during each performance test and also include the following data in the report of the initial performance test required under § 60.8. Where a boiler or process heater with a design heat input capacity of 44 MW (150 million Btu/hour) or greater is used to comply with § 60.612(a), a report containing performance test data need not be submitted, but a report containing the information of § 60.615(b)(2)(i) is required to be submitted following the procedure specified in paragraph (m) of this section. The same data specified in this section shall be submitted, following the procedure specified in § 60.8(j), in the reports of all subsequently required performance tests where either the emission control efficiency of a control device, outlet concentration of TOC, or the TRE index value of a vent stream from a recovery system is determined.

* * * * *

(j) Each owner or operator that seeks to comply with the requirements of this subpart by complying with the requirements of § 60.612 shall submit, following the procedure specified in paragraph (m) of this section, semiannual reports of the following information. The initial report shall be submitted within 6 months after the initial start-up-date.

* * * * *

(k) The requirements of § 60.615(j) remain in force until and unless the EPA, in delegating enforcement authority to a State under section 111(c) of the Act, approves reporting requirements or an alternative means of compliance surveillance adopted by such State. In that event, affected sources within the State will be relieved of the obligation to comply with § 60.615(j), provided that they comply with the requirements established by the State. Electronic reporting to the EPA cannot be waived, and as such, the provisions of this paragraph do not relieve owners or operators of affected facilities of the requirement to submit the electronic reports required in this section to the EPA.

* * * * *

(m) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

(n) Any records required to be maintained by this subpart that are submitted electronically via the EPA's CDX may be maintained electronically.

Subpart LLL—Standards of Performance for SO2 Emissions From Onshore Natural Gas Processing for Which Construction, Reconstruction, or Modification Commenced After January 20, 1984, and on or Before August 23, 2011

58. Section 60.647 is amended by:

a. Revising paragraph (a);

b. Revising paragraph (b) introductory text; and

c. Revising paragraph (e).

The revisions read as follows:

§ 60.647 Recordkeeping and reporting requirements.

(a) Records of the calculations and measurements required in § 60.642 (a) and (b) and § 60.646 (a) through (g) must be retained for at least 2 years following the date of the measurements by owners and operators subject to this subpart. This requirement is included under § 60.7(d) of the General Provisions. Any records required to be maintained by this subpart that are submitted electronically via the EPA's Central Data Exchange (CDX) may be maintained in electronic format.

(b) Each owner or operator shall submit, following the procedure specified in § 60.7(c), a report of excess emissions semiannually. For the purpose of these reports, excess emissions are defined as:

* * * * *

(e) The requirements of paragraph (b) of this section remain in force until and unless the EPA, in delegating enforcement authority to a State under section 111(c) of the Act, approves reporting requirements or an alternative means of compliance surveillance adopted by such State. In that event, affected sources within the State will be relieved of obligation to comply with paragraph (b) of this section, provided that they comply with the requirements established by the State. Electronic reporting to the EPA cannot be waived, and as such, the provisions of this paragraph do not relieve owners or operators of affected facilities of the requirement to submit the electronic reports required in this section to the EPA.

Subpart NNN—Standards of Performance for Volatile Organic Compound (VOC) Emissions From Synthetic Organic Chemical Manufacturing Industry (SOCMI) Distillation Operations

59. Section 60.665 is amended by:

a. Revising paragraph (b) introductory text;

b. Revising paragraph (l) introductory text;

c. Revising paragraph (m); and

d. Adding paragraphs (q) and (r).

The revisions and additions read as follows:

§ 60.665 Reporting and recordkeeping requirements.

* * * * *

(b) Each owner or operator subject to the provisions of this subpart shall keep an up-to-date, readily accessible record of the following data measured during each performance test, and also include the following data in the report of the initial performance test required under § 60.8. Where a boiler or process heater with a design heat input capacity of 44 MW (150 million Btu/hour) or greater is used to comply with § 60.662(a), a report containing performance test data need not be submitted, but a report containing the information in § 60.665(b)(2)(i) is required to be submitted following the procedure specified in paragraph (q) of this section. The same data specified in this section shall be submitted, following the procedure specified in § 60.8(j), in the reports of all subsequently required performance tests where either the emission control efficiency of a control device, outlet concentration of TOC, or the TRE index value of a vent stream from a recovery system is determined.

* * * * *

(l) Each owner or operator that seeks to comply with the requirements of this subpart by complying with the requirements of § 60.660 (c)(4), (c)(5), or (c)(6) or § 60.662 shall submit, following the procedure specified in paragraph (q) of this section, semiannual reports of the following recorded information. The initial report shall be submitted within 6 months after the initial start-up date.

* * * * *

(m) The requirements of § 60.665(l) remain in force until and unless the EPA, in delegating enforcement authority to a State under section 111(c) of the Act, approves reporting requirements or an alternative means of compliance surveillance adopted by such State. In that event, affected sources within the State will be relieved of the obligation to comply with § 60.665(l), provided that they comply with the requirements established by the State. Electronic reporting to the EPA cannot be waived, and as such, the provisions of this paragraph do not relieve owners or operators of affected facilities of the requirement to submit the electronic reports required in this section to the EPA.

* * * * *

(q) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

(r) Any records required to be maintained by this subpart that are submitted electronically via the EPA's CDX may be maintained electronically.

60. Section 60.668 is amended by revising paragraph (b) to read as follows:

§ 60.668 Delegation of authority.

* * * * *

(b) Authorities which will not be delegated to States: § 60.663(e) and approval of an alternative to any electronic reporting to the EPA required by this subpart.

Subpart OOO—Standards of Performance for Nonmetallic Mineral Processing Plants

61. Section 60.676 is amended by:

a. Revising paragraphs (e) and (f);

b. Revising paragraphs (j) and (k); and

c. Adding paragraph (l).

The revisions and addition read as follows:

§ 60.676 Reporting and recordkeeping.

* * * * *

(e) The reports required under paragraph (d) of this section shall be submitted electronically within 30 days following the end of the second and fourth calendar quarters to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The reports must be submitted by the deadlines specified in this subpart, regardless of the method in which the reports are submitted.

(f) The owner or operator of any affected facility shall submit, following the procedure specified in § 60.8(j), reports of the results of all performance tests conducted to demonstrate compliance with the standards set forth in § 60.672 of this subpart, including reports of opacity observations made using Method 9 (40 CFR part 60, Appendix A-4) to demonstrate compliance with § 60.672(b), (e) and (f).

* * * * *

(j) The requirements of this section remain in force until and unless the Agency, in delegating enforcement authority to a State under section 111(c) of the Act, approves reporting requirements or an alternative means of compliance surveillance adopted by such States. In that event, affected facilities within the State will be relieved of the obligation to comply with the reporting requirements of this section, provided that they comply with requirements established by the State. Electronic reporting to the EPA cannot be waived, and as such, the provisions of this paragraph do not relieve owners or operators of affected facilities of the requirement to submit the electronic reports required in this section to the EPA.

(k) Except for the reports required to be electronically submitted to the EPA's CDX, as identified in this section, notifications and reports required under this subpart and under subpart A of this part to demonstrate compliance with this subpart need only to be sent to the EPA Region or the State which has been delegated authority according to § 60.4(b). Reports required to be electronically submitted to the EPA's CDX may not be exempted from Federal electronic reporting requirements.

(l) Any records required to be maintained by this subpart that are submitted electronically via the EPA's CDX may be maintained electronically.

62. Amend Table 1 to Subpart OOO by revising entry “60.4, Address” to read as follows:

Table 1 to Subpart OOO—Exceptions to Applicability of Subpart A to Subpart OOO
Subpart A reference | Applies to subpart OOO | Explanation
60.4, Address | Yes | Except in § 60.4(a) and (b) submittals that are not submitted to the EPA's CDX need only be sent to the EPA Region or the State which has been delegated authority (§ 60.676(k)).
* * * * * * *

Subpart PPP—Standard of Performance for Wool Fiberglass Insulation Manufacturing Plants

63. Section 60.684 is amended by:

a. Revising paragraphs (d) and (e); and

b. Adding paragraph (f).

The revisions and addition read as follows:

§ 60.684 Recordkeeping and reporting requirements.

* * * * *

(d) Each owner or operator shall submit semiannual reports of exceedances of control device operating parameters required to be monitored by paragraphs (a) and (b) of this section and documentation of, and a report of corrective maintenance required as a result of, quarterly calibrations of the monitoring devices required in § 60.683(c). For the purpose of these reports, exceedances are defined as any monitoring data that are less than 70 percent of the lowest value or greater than 130 percent of the highest value of each operating parameter recorded during the most recent performance test. Each owner or operator shall submit such reports to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The reports must be submitted by the deadlines specified in this subpart, regardless of the method in which the reports are submitted.

(e) The requirements of this section remain in force until and unless the Agency, in delegating enforcement authority to a State under section 111(c) of the Act, approves reporting requirements or an alternative means of compliance surveillance adopted by such State. In that event, affected facilities within the State will be relieved of the obligation to comply with this section, provided that they comply with the requirements established by the State. Electronic reporting to the EPA cannot be waived, and as such, the provisions of this paragraph do not relieve owners or operators of affected facilities of the requirement to submit the electronic reports required in this section to the EPA.

(f) Any records required to be maintained by this subpart that are submitted electronically via the EPA's CDX may be maintained electronically.

Subpart QQQ—Standards of Performance for VOC Emissions From Petroleum Refinery Wastewater Systems

64. Section 60.697 is amended by revising paragraph (a) to read as follows:

§ 60.697 Recordkeeping requirements.

(a) Each owner or operator of a facility subject to the provisions of this subpart shall comply with the recordkeeping requirements of this section. All records shall be retained for a period of 2 years after being recorded unless otherwise noted. Any records required to be maintained by this subpart that are submitted electronically via the EPA's Central Data Exchange (CDX) may be maintained in electronic format.

* * * * *

65. Section 60.698 is amended by:

a. Revising paragraph (b)(1);

b. Revising paragraph (c);

c. Revising paragraph (d) introductory text; and

d. Adding paragraph (f).

The revisions and addition read as follows:

§ 60.698 Reporting requirements.

* * * * *

(b)(1) Within 60 days after initial startup, each owner or operator of a facility subject to this subpart shall submit, following the procedure specified in paragraph (f) of this section, a certification that the equipment necessary to comply with these standards has been installed and that the required initial inspections or tests of process drains, sewer lines, junction boxes, oil-water separators, and closed vent systems and control devices have been carried out in accordance with these standards. Thereafter, the owner or operator shall submit semiannually, following the procedure specified in paragraph (f) of this section, a certification that all of the required inspections have been carried out in accordance with these standards.

* * * * *

(c) A report that summarizes all inspections when a water seal was dry or otherwise breached, when a drain cap or plug was missing or improperly installed, or when cracks, gaps, or other problems were identified that could result in VOC emissions, including information about the repairs or corrective action taken, shall be submitted initially and semiannually thereafter, following the procedure specified in paragraph (f) of this section.

(d) As applicable, a report shall be submitted semiannually, following the procedure specified in paragraph (f) of this section, that indicates:

* * * * *

(f) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

66. Section 60.699 is amended by revising paragraph (b) to read as follows:

§ 60.699 Delegation of authority.

* * * * *

(b) Authorities which will not be delegated to States:

§ 60.694 Permission to use alternative means of emission limitations.

Approval of an alternative to any electronic reporting to the EPA required by this subpart.

Subpart RRR—Standards of Performance for Volatile Organic Compound Emissions From Synthetic Organic Chemical Manufacturing Industry (SOCMI) Reactor Processes

67. Section 60.705 is amended by:

a. Revising paragraph (b);

b. Revising paragraph (l) introductory text;

c. Revising paragraph (m);

d. Revising paragraph (p); and

e. Adding paragraphs (u) and (v).

The revisions and additions read as follows:

§ 60.705 Reporting and recordkeeping requirements.

* * * * *

(b) Each owner or operator subject to the provisions of this subpart shall keep an up-to-date, readily accessible record of the following data measured during each performance test, and also include the following data in the report of the initial performance test required under § 60.8. Where a boiler or process heater with a design heat input capacity of 44 MW (150 million Btu/hour) or greater is used or where the reactor process vent stream is introduced as the primary fuel to any size boiler or process heater to comply with § 60.702(a), a report containing performance test data need not be submitted, but a report containing the information in § 60.705(b)(2)(i) is required to be submitted following the procedure specified in paragraph (u) of this section. The same data specified in this section shall be submitted, following the procedure specified in § 60.8(j), in the reports of all subsequently required performance tests where either the emission control efficiency of a combustion device, outlet concentration of TOC, or the TRE index value of a vent stream from a recovery system is determined.

* * * * *

(l) Each owner or operator that seeks to comply with the requirements of this subpart by complying with the requirements of § 60.700 (c)(2), (c)(3), or (c)(4) or § 60.702 shall submit, following the procedure specified in paragraph (u) of this section, semiannual reports of the following recorded information. The initial report shall be submitted within 6 months after the initial start-up date.

* * * * *

(m) The requirements of § 60.705(l) remain in force until and unless EPA, in delegating enforcement authority to a State under section 111(c) of the Act, approves reporting requirements or an alternative means of compliance surveillance adopted by such State. In that event, affected sources within the State will be relieved of the obligation to comply with § 60.705(l), provided that they comply with the requirements established by the State. Electronic reporting to the EPA cannot be waived, and as such, the provisions of this paragraph do not relieve owners or operators of affected facilities of the requirement to submit the electronic reports required in this section to the EPA.

* * * * *

(p) Each owner or operator that seeks to demonstrate compliance with § 60.700(c)(8) must submit, following the procedure specified in § 60.8(j), an initial report including a concentration measurement using the test method specified in § 60.704.

* * * * *

(u) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

(v) Any records required to be maintained by this subpart that are submitted electronically via the EPA's CDX may be maintained electronically.

68. Section 60.708 is amended by revising paragraph (b) to read as follows:

§ 60.708 Delegation of authority.

* * * * *

(b) Authorities which will not be delegated to States: § 60.703(e) and approval of an alternative to any electronic reporting to the EPA required by this subpart.

Subpart SSS—Standards of Performance for Magnetic Tape Coating Facilities

69. Section 60.717 is amended by:

a. Revising paragraph (a);

b. Revising paragraph (c);

c. Revising paragraph (d) introductory text;

d. Revising paragraph (e);

e. Revising paragraphs (h) and (i); and

f. Adding paragraph (j).

The revisions and addition read as follows:

§ 60.717 Reporting and monitoring requirements.

(a) For all affected coating operations subject to § 60.712(a), (b)(1), (b)(2), or (b)(3) and all affected coating mix preparation equipment subject to § 60.712(c), the performance test data and results shall be submitted following the procedure specified in § 60.8(j) of the General Provisions (40 CFR part 60, subpart A). In addition, the average values of the monitored parameters measured at least every 15 minutes and averaged over the period of the performance test shall be submitted with the results of all performance tests.

* * * * *

(c) Each owner or operator of an affected coating operation initially utilizing less than the applicable volume of solvent specified in § 60.710(b) per calendar year shall report, following the procedure specified in paragraph (j) of this section, the first calendar year in which actual annual solvent use exceeds the applicable volume.

(d) Each owner or operator of an affected coating operation, or affected coating mix preparation equipment subject to § 60.712(c), shall submit, following the procedure specified in paragraph (j) of this section, semiannual reports documenting the following:

* * * * *

(e) Each owner or operator of an affected coating operation, or affected coating mix preparation equipment subject to § 60.712(c), not required to submit reports under § 60.717(d) because no reportable periods have occurred shall submit, following the procedure specified in paragraph (j) of this section, semiannual reports so affirming.

* * * * *

(h) The reports required under paragraphs (b) through (e) of this section shall be submitted electronically within 30 days of the end of the reporting period.

(i) The requirements of this subsection remain in force until and unless the EPA, in delegating enforcement authority to a State under section 111(c) of the Act, approves reporting requirements or an alternative means of compliance surveillance adopted by such States. In this event, affected sources within the State will be relieved of the obligation to comply with this subsection, provided that they comply with the requirements established by the State. Electronic reporting to the EPA cannot be waived, and as such, the provisions of this paragraph do not relieve owners or operators of affected facilities of the requirement to submit the electronic reports required in this section to the EPA.

(j) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

70. Section 60.718 is amended by revising paragraph (b) to read as follows:

§ 60.718 Delegation of authority.

* * * * *

(b) Authorities which will not be delegated to States:

§ 60.711(a)(16)

§ 60.713(b)(1)(i)

§ 60.713(b)(1)(ii)

§ 60.713(b)(5)(i)

§ 60.713(d)

§ 60.715(a)

§ 60.716

Approval of an alternative to any electronic reporting to the EPA required by this subpart.

Subpart TTT—Standards of Performance for Industrial Surface Coating: Surface Coating of Plastic Parts for Business Machines

71. Section 60.724 is amended by:

a. Revising paragraph (a) introductory text;

b. Revising paragraph (b) introductory text; and

c. Revising paragraphs (c) and (d).

The revisions read as follows:

§ 60.724 Reporting and recordkeeping requirements.

(a) The reporting requirements of § 60.8 apply only to the initial performance test. Each owner or operator subject to the provisions of this subpart shall include the following data in the report of the initial performance test required under § 60.8:

* * * * *

(b) Following the initial report, each owner or operator must submit the information specified in paragraphs (b)(1) and (b)(2) of this section to the EPA via the Compliance and Emissions Data Reporting Interface (CEDRI). (CEDRI can be accessed through the EPA's Central Data Exchange (CDX) (https://cdx.epa.gov/).) The owner or operator must use the appropriate electronic report in CEDRI for this subpart or provide an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The report must be submitted by the deadline specified in this subpart, regardless of the method in which the report is submitted.

* * * * *

(c) These reports shall be submitted electronically not later than 10 days after the end of the periods specified in § 60.724(b)(1) and § 60.724(b)(2).

(d) Each owner or operator subject to the provisions of this subpart shall maintain at the source, for a period of at least 2 years, records of all data and calculations used to determine monthly VOC emissions from each coating operation for each affected facility as specified in 40 CFR 60.7(d). Any records required to be maintained by this subpart that are submitted electronically via the EPA's Central Data Exchange (CDX) may be maintained in electronic format.

* * * * *

72. Section 60.726 is amended to revise paragraph (b) to read as follows:

§ 60.726 Delegation of authority.

* * * * *

(b) Authorities which will not be delegated to the States:

Section 60.723(b)(1)

Section 60.723(b)(2)(i)(C)

Section 60.723(b)(2)(iv)

Section 60.724(e)

Section 60.725(b)

Approval of an alternative to any electronic reporting to the EPA required by this subpart.

Subpart UUU—Standards of Performance for Calciners and Dryers in Mineral Industries

73. Section 60.735 is amended by:

a. Revising paragraph (a);

b. Revising paragraph (c) introductory text; and

c. Revising paragraph (d).

The revisions read as follows:

§ 60.735 Recordkeeping and reporting requirements.

(a) Records of the measurements required in § 60.734 of this subpart shall be retained for at least 2 years. Any records required to be maintained by this subpart that are submitted electronically via the EPA's Central Data Exchange (CDX) may be maintained in electronic format.

* * * * *

(c) Semiannually, each owner or operator shall submit reports of exceedances of control device operating parameters required to be monitored by § 60.734 of this subpart to the EPA via the Compliance and Emissions Data Reporting Interface (CEDRI). (CEDRI can be accessed through the EPA's Central Data Exchange (CDX) (https://cdx.epa.gov/).) The owner or operator shall use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator shall submit the report to the Administrator at the appropriate address listed in § 60.4. The owner or operator shall begin submitting reports via CEDRI no later than 90 days after the form becomes available in CEDRI. The report must be submitted by the deadline specified in this subpart, regardless of the method in which the report is submitted. For the purpose of these reports, exceedances are defined as follows:

* * * * *

(d) The requirements of this section remain in force until and unless the Agency, in delegating enforcement authority to a State under section 111(c) of the Clean Air Act, approves reporting requirements or an alternative means of compliance surveillance adopted by such State. In that event, affected facilities within the State will be relieved of the obligation to comply with this section provided that they comply with the requirements established by the State. Electronic reporting to the EPA cannot be waived, and as such, the provisions of this paragraph do not relieve owners or operators of affected facilities of the requirement to submit the electronic reports required in this section to the EPA.

74. Section 60.737 is amended by revising paragraph (b) to read as follows:

§ 60.737 Delegation of authority.

* * * * *

(b) Authorities which will not be delegated to States:

Approval of an alternative to any electronic reporting to the EPA required by this subpart.

Subpart VVV—Standards of Performance for Polymeric Coating of Supporting Substrates Facilities

75. Section 60.741, Table 1B is amended by:

a. Adding a “(j)” to the “Reporting and recordkeeping requirements—§ 60.747” column for “Compliance provisions—§ 60.743” entries A(a)(1) through (a)(4);

b. Adding a “(j)” to the “Reporting and recordkeeping requirements—§ 60.747” column for “Compliance provisions—§ 60.743” entry A(b); and

c. Adding a “(j)” to the “Reporting and recordkeeping requirements—§ 60.747” column for “Compliance provisions—§ 60.743” entry B(c).

The additions read as follows:

§ 60.741 Definitions, symbols, and cross-reference tables.

* * * * *

Table 1B—Cross Reference
Compliance provisions—§ 60.743 | Test methods— § 60.745 | Category/ equipment ᵃ | Monitoring requirements— § 60.744 | Reporting and recordkeeping requirements— § 60.747
A. Coating operation:
(a)(1)—Gaseous emission test for coating operations not using carbon adsorption beds with individual exhausts | (b)-(g) | General, CA, CO, TI, CI, PE, TE | (a), (i), (j), (k), (c)(1), (d), (e), (f), (g) | (a), (d)(7), (f), (g), (h), (d)(1)(i), (d)(2)(i), (d)(3), (d)(4), (d)(5), (d)(6), (j).
(a)(2)—Gaseous emission test for coating operations using carbon adsorption beds with individual exhausts | (b)-(g) | General, CA, PE, TE | (a), (i), (j), (k), (c)(2), (g) | (a), (d)(7), (f), (g), (h), (d)(1)(ii), (d)(2)(ii), (d)(6), (j).
(a)(3)—Monthly liquid material balance—can be used only when a VOC recovery device controls only those emissions from one affected coating operation | (a) | VOC recovery | (i), (k) | (e), (f), (g), (h), (j).
(a)(4)—Short-term (3 to 7 day) liquid material balance—may be used as an alternative to (a)(3) | (a) | General, CA, CO, PE, TE | (a), (i), (j), (k), (c)(1), (c)(2), (d), (g) | (a), (d)(7), (f), (g), (h), (d)(1), (d)(2), (d)(3), (d)(6), (j).
(b)—Alternative standard for coating operation—demonstrate use of approved total enclosure and emissions vented to a 95 percent efficient control device | (b)-(g) | General, CA, CO, TI, CI, PE, TE | (a), (i), (j), (k), (c)(1), (c)(2), (d), (e), (f), (h) | (a), (d)(7), (f), (g), (h), (d)(1), (d)(2), (d)(3), (d)(4), (d)(5), (d)(6), (j).
B. Coating mix preparation equipment:
(c)—Standard for equipment servicing a coating operation with concurrent construction of a control device that uses at least 130 Mg/yr of VOC—demonstrate that covers meeting specifications are installed and used properly; procedures detailing proper use are posted; the mix equipment is vented to a 95 percent efficient control device | (b)-(g) | General, CA, TI, CI | (a), (i), (j), (k), (c)(1), (c)(2), (e), (f) | (a), (d)(7), (f), (g), (h), (d)(1), (d)(2), (d)(4), (d)(5), (j).
* * * * * * *

* * * * *

76. Section 60.747 is amended by:

a. Revising paragraph (a);

b. Revising paragraphs (c)(2) and (3);

c. Revising paragraph (d) introductory text;

d. Revising paragraph (e) introductory text;

e. Revising paragraphs (g) through (i); and

f. Adding paragraph (j).

The revisions and addition read as follows:

§ 60.747 Reporting and recordkeeping requirements.

(a) For each affected facility subject to the requirements of § 60.742(b) and (c), the owner or operator shall submit the performance test data and results as specified in § 60.8(j) of this part. In addition, the average values of the monitored parameters measured at least every 15 minutes and averaged over the period of the performance test shall be submitted with the results of all performance tests.

* * * * *

(c) * * *

(2) Report, following the procedure specified in paragraph (j) of this section, the first semiannual estimate in which projected annual VOC use exceeds the applicable cutoff; and

(3) Report, following the procedure specified in paragraph (j) of this section, the first 12-month period in which the actual VOC use exceeds the applicable cutoff.

(d) Each owner or operator of an affected facility demonstrating compliance by the methods described in § 60.743(a)(1), (2), (4), (b), or (c) shall maintain records and submit, following the procedure specified in paragraph (j) of this section, quarterly reports documenting the following:

* * * * *

(e) Each owner or operator of an affected coating operation, demonstrating compliance by the test methods described in § 60.743(a)(3) (liquid-liquid material balance) shall submit, following the procedure specified in paragraph (j) of this section, the following:

* * * * *

(g) The reports required under paragraphs (b), (c), (d), and (e) of this section shall be submitted electronically and-or postmarked within 30 days of the end of the reporting period.

(h) Records required in § 60.747 must be retained for at least 2 years. Any records required to be maintained by this subpart that are submitted electronically via the EPA's Central Data Exchange (CDX) may be maintained in electronic format.

(i) The requirements of this section remain in force until and unless the EPA, in delegating enforcement authority to a State under section 111(c) of the Act, approves reporting requirements or an alternative means of compliance surveillance adopted by such States. In this event, affected sources within the State will be relieved of the obligation to comply with this subsection, provided that they comply with the requirements established by the State. Electronic reporting to the EPA cannot be waived, and as such, the provisions of this paragraph do not relieve owners or operators of affected facilities of the requirement to submit the electronic reports required in this section to the EPA.

(j) Each owner or operator required to submit reports following the procedure specified in this paragraph must submit reports to the EPA via the Compliance and Emissions Data Reporting Interface (CEDRI). (CEDRI can be accessed through the EPA's Central Data Exchange (CDX) (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

77. Section 60.748 is amended by revising paragraph (b) to read as follows:

§ 60.748 Delegation of authority.

* * * * *

(b) Authorities that will not be delegated to States: §§ 60.743(a)(3)(v) (A) and (B); 60.743(e); 60.745(a); 60.746; and approval of an alternative to any electronic reporting to the EPA required by this subpart.

Subpart WWW—Standards of Performance for Municipal Solid Waste Landfills

78. Section 60.750 is amended by revising paragraph (b) to read as follows:

§ 60.750 Applicability, designation of affected facility, and delegation of authority.

* * * * *

(b) The following authorities shall be retained by the Administrator and not transferred to the State: § 60.754(a)(5) and approval of an alternative to any electronic reporting to the EPA required by this subpart.

* * * * *

79. Section 60.757 is amended by:

a. Revising paragraphs (b) introductory text;

b. Revising paragraph (b)(1)(i) introductory text;

c. Revising paragraph (b)(1)(ii);

d. Revising paragraphs (c)(1) and (c)(2);

e. Revising paragraphs (e)(1)(ii) and (e)(1)(iii);

f. Revising paragraph (f) introductory text; and

g. Adding paragraph (h).

The revisions and addition read as follows:

§ 60.757 Reporting requirements.

* * * * *

(b) Each owner or operator subject to the requirements of this subpart shall submit, following the procedure specified in paragraph (h) of this section, an NMOC emission rate report initially and annually thereafter, except as provided for in paragraphs (b)(1)(ii) or (b)(3) of this section. The Administrator may request such additional information as may be necessary to verify the reported NMOC emission rate.

(1) * * *

(i) The initial NMOC emission rate report shall be submitted no later than indicated in paragraphs (b)(1)(i)(A) and (B) of this section. Subsequent NMOC emission rate reports shall be submitted annually thereafter, except as provided for in paragraphs (b)(1)(ii) and (b)(3) of this section.

* * * * *

(ii) If the estimated NMOC emission rate as reported in the annual report to the Administrator is less than 50 megagrams per year in each of the next 5 consecutive years, the owner or operator may elect to submit, following the procedure specified in paragraph (h) of this section, an estimate of the NMOC emission rate for the next 5-year period in lieu of the annual report. This estimate shall include the current amount of solid waste-in-place and the estimated waste acceptance rate for each year of the 5 years for which an NMOC emission rate is estimated. All data and calculations upon which this estimate is based shall be provided to the Administrator. This estimate shall be revised at least once every 5 years. If the actual waste acceptance rate exceeds the estimated waste acceptance rate in any year reported in the 5-year estimate, a revised 5-year estimate shall be submitted to the Administrator. The revised estimate shall cover the 5-year period beginning with the year in which the actual waste acceptance rate exceeded the estimated waste acceptance rate.

* * * * *

(c) * * *

(1) If the owner or operator elects to recalculate the NMOC emission rate after Tier 2 NMOC sampling and analysis as provided in § 60.754(a)(3) and the resulting rate is less than 50 megagrams per year, annual periodic reporting shall be resumed, using the Tier 2 determined site-specific NMOC concentration, until the calculated emission rate is equal to or greater than 50 megagrams per year or the landfill is closed. The revised NMOC emission rate report, with the recalculated emission rate based on NMOC sampling and analysis, shall be submitted, following the procedure specified in paragraph (h) of this section, within 180 days of the first calculated exceedance of 50 megagrams per year.

(2) If the owner or operator elects to recalculate the NMOC emission rate after determining a site-specific methane generation rate constant (k), as provided in Tier 3 in § 60.754(a)(4), and the resulting NMOC emission rate is less than 50 Mg/yr, annual periodic reporting shall be resumed. The resulting site-specific methane generation rate constant (k) shall be used in the emission rate calculation until such time as the emissions rate calculation results in an exceedance. The revised NMOC emission rate report based on the provisions of § 60.754(a)(4) and the resulting site-specific methane generation rate constant (k) shall be submitted, following the procedure specified in paragraph (h) of this section, within 1 year of the first calculated emission rate exceeding 50 megagrams per year.

* * * * *

(e) * * *

(1) * * *

(ii) A copy of the initial performance test report demonstrating that the 15 year minimum control period has expired, unless the report of the results of the performance test has been submitted to the EPA via the EPA's Central Data Exchange (CDX). In the equipment removal report, the process unit(s) tested, the pollutant(s) tested, and the date that such performance test was conducted may be submitted in lieu of the performance test report if the report has been previously submitted to the EPA's CDX; and

(iii) Dated copies of three successive NMOC emission rate reports demonstrating that the landfill is no longer producing 50 megagrams or greater of NMOC per year, unless the NMOC emission rate reports have been submitted to the EPA via the EPA's CDX. If the NMOC emission rate reports have been previously submitted to the EPA's CDX, a statement that the NMOC emission rate reports have been submitted electronically and the dates that the reports were submitted to the EPA's CDX may be submitted in the equipment removal report in lieu of the NMOC emission rate reports.

* * * * *

(f) Each owner or operator of a landfill seeking to comply with § 60.752(b)(2) using an active collection system designed in accordance with § 60.752(b)(2)(ii) shall submit, following the procedure specified in paragraph (h) of this section, annual reports of the recorded information in (f)(1) through (f)(6) of this paragraph. The initial annual report shall be submitted within 180 days of installation and start-up of the collection and control system. The initial annual report shall include the following information pertaining to the initial performance test report required under § 60.8: the process unit(s) tested, the pollutant(s) tested, and the date that such performance test was conducted. The initial performance test report shall be submitted, following the procedure specified in § 60.8(j), no later than the date that the initial annual report is submitted. For enclosed combustion devices and flares, reportable exceedances are defined under § 60.758(c).

* * * * *

(h) Each owner or operator required to submit reports following the procedure specified in this paragraph must submit reports to the EPA via the Compliance and Emissions Data Reporting Interface (CEDRI). (CEDRI can be accessed through the EPA's CDX (https://cdx.epa.gov/).) The owner or operator must use the appropriate electronic report in CEDRI for this subpart or an alternate electronic file format consistent with the extensible markup language (XML) schema listed on the CEDRI Web site (http://www.epa.gov/ttn/chief/cedri/index.html). If the reporting form specific to this subpart is not available in CEDRI at the time that the report is due, the owner or operator must submit the report to the Administrator at the appropriate address listed in § 60.4. The owner or operator must begin submitting reports via CEDRI no later than 90 days after the form becomes available in CEDRI. The reports must be submitted by the deadlines specified in this subpart, regardless of the method in which the reports are submitted.

80. Section 60.758 is amended by adding paragraph (g) to read as follows:

§ 60.758 Recordkeeping requirements.

* * * * *

(g) Any records required to be maintained by this subpart that are submitted electronically via the EPA's Central Data Exchange (CDX) may be maintained in electronic format.

Subpart AAAA—Standards of Performance for Small Municipal Waste Combustion Units for Which Construction is Commenced After August 30, 1999 or for Which Modification or Reconstruction Is Commenced After June 6, 2001

81. Section 60.1030 is revised to read as follows:

§ 60.1030 Can the Administrator delegate authority to enforce these Federal new source performance standards to a State agency?

Yes, the Administrator can delegate all authorities in all sections of this subpart, except approval of an alternative to any electronic reporting to the EPA required by this subpart, to the State for direct State enforcement.

82. Section 60.1385 is revised to read as follows:

§ 60.1385 What reports must I submit after I submit my notice of construction and in what form?

(a) Submit an initial report and annual reports, plus semiannual reports for any emission or parameter level that does not meet the limits specified in this subpart. Submit initial, annual and semiannual reports to the EPA via the Compliance and Emissions Data Reporting Interface (CEDRI). (CEDRI can be accessed through the EPA's Central Data Exchange (CDX) (https://cdx.epa.gov/).) You must use the appropriate electronic report in CEDRI for this subpart or an alternate electronic file format consistent with the extensible markup language (XML) schema listed on the CEDRI Web site (http://www.epa.gov/ttn/chief/cedri/index.html). If the reporting form specific to this subpart is not available in CEDRI at the time that the report is due, you must submit the report to the Administrator at the appropriate address listed in § 60.4. You must begin submitting reports via CEDRI no later than 90 days after the form becomes available in CEDRI. The reports must be submitted by the deadlines specified in this subpart, regardless of the method in which the reports are submitted.

(b) Submit all reports electronically on or before the submittal dates in §§ 60.1395, 60.1405, and 60.1420.

(c) Keep a copy of all reports required by §§ 60.1400, 60.1410, and 60.1425 onsite for 5 years. Records for any report that is submitted electronically via the EPA's CDX may be maintained in electronic format.

83. Section 60.1400 is amended by revising paragraphs (c) and (d) to read as follows:

§ 60.1400 What must I include in my initial report?

* * * * *

(c) For each initial performance test conducted during the reporting period, the process unit(s) tested, the pollutant(s) tested, and the date that such performance test was conducted. Submit, following the procedure specified in § 60.8(j), the results of the initial performance test (including supporting calculations) required by this subpart no later than the date that you submit the initial report.

(d) For the initial performance evaluation of your continuous emissions monitoring system (CEMS), the process unit where the CEMS is installed, the pollutant the CEMS measures, and the date that the performance evaluation was conducted. Use the applicable performance specifications in appendix B of this part in conducting the evaluation. Submit the results of the initial performance evaluation of your CEMS, following the procedure specified in § 60.13(c)(2), no later than the date that you submit the initial report.

* * * * *

84. Section 60.1425 is amended by revising paragraph (b) to read as follows:

§ 60.1425 What must I include in the semiannual out-of-compliance reports?

* * * * *

(b) If the results of your annual stack tests (as recorded in § 60.1360(a)) show emissions above the limits specified in table 1 of this subpart for dioxins/furans, cadmium, lead, mercury, particulate matter, opacity, hydrogen chloride, and fugitive ash, the process unit(s) tested, the pollutant(s) tested, and the date that such performance test was conducted. You must submit, following the procedure specified in § 60.8(j), the performance test report that documents the emission levels and your corrective actions no later than the date that you submit the semiannual report.

* * * * *

Subpart EEEE—Standards of Performance for Other Solid Waste Incineration Units for Which Construction is Commenced After December 9, 2004, or for Which Modification or Reconstruction Is Commenced on or After June 16, 2006

85. Section 60.2889 is amended by revising paragraph (b) introductory text and adding paragraph (b)(7) to read as follows:

§ 60.2889 Who implements and enforces this subpart?

* * * * *

(b) In delegating implementation and enforcement authority of this subpart to a State, local, or tribal agency, the authorities contained in paragraphs (b)(1) through (7) of this section are retained by the EPA and are not transferred to the State, local, or tribal agency.

* * * * *

(7) Approval of an alternative to any electronic reporting to the EPA required by this subpart.

86. Section 60.2956 is amended by revising paragraph (h) to read as follows:

§ 60.2956 What information must I include in my annual report?

* * * * *

(h) For each performance test conducted during the reporting period, if any performance test is conducted, the process unit(s) tested, the pollutant(s) tested, and the date that such performance test was conducted. Submit, following the procedure specified in § 60.8(j), the performance test report no later than the date that you submit the annual report.

* * * * *

87. Section 60.2958 is amended by revising paragraph (d) to read as follows:

§ 60.2958 What must I include in the deviation report?

* * * * *

(d) A copy of the operating limit monitoring data during each deviation and for any test report that documents the emission levels, the process unit(s) tested, the pollutant(s) tested, and the date that such performance test was conducted. Submit, following the procedure specified in § 60.8(j), the performance test report no later than the date that you submit the deviation report.

* * * * *

88. Section 60.2961 is revised to read as follows:

§ 60.2961 In what form can I submit my reports?

Submit initial reports electronically or in paper format, postmarked on or before the submittal due date, to the Administrator at the appropriate address listed in § 60.4. Submit annual and deviation reports electronically on or before the submittal due dates to the EPA via the Compliance and Emissions Data Reporting Interface (CEDRI). (CEDRI can be accessed through the EPA's Central Data Exchange (CDX) (https://cdx.epa.gov/).) Use the appropriate electronic report in CEDRI for this subpart or an alternate electronic file format consistent with the extensible markup language (XML) schema listed on the CEDRI Web site (http://www.epa.gov/ttn/chief/cedri/index.html). If the reporting form specific to this subpart is not available in CEDRI at the time that the report is due, submit the report to the Administrator at the appropriate address listed in § 60.4. Begin submitting reports via CEDRI no later than 90 days after the form becomes available in CEDRI. The reports must be submitted by the deadlines specified in this subpart, regardless of the method in which the reports are submitted.

89. Table 4 to Subpart EEEE is amended by revising the entries for “4. Annual report” and “5. Emission limitation or operating limit deviation report” to read as follows:

Table 4 to Subpart EEEE of Part 60—Summary of Reporting Requirements
Report | Due date | Contents | Reference
* * * * * * *
4. Annual report | a. No later than 12 months following the submission of the initial test report. Subsequent reports are to be submitted no more than 12 months following the previous report | i. Company name and address; ii. Statement and signature by the owner or operator; iii. Date of report; iv. Values for the operating limits; | §§ 60.2955 and 60.2956. §§ 60.2955 and 60.2956. §§ 60.2955 and 60.2956. §§ 60.2955 and 60.2956. §§ 60.2955 and 60.2956.
|  | v. If no deviations or malfunctions were reported, a statement that no deviations occurred during the reporting period; | §§ 60.2955 and 60.2956.
|  | vi. Highest and lowest recorded 12-hour averages, as applicable for carbon monoxide emissions and highest and lowest recorded 3-hour averages, as applicable, for each operating parameter recorded for the calendar year being reported; | §§ 60.2955 and 60.2956.
|  | vii. Information for deviations or malfunctions recorded under § 60.2949(b)(6) and (c) through (e); | §§ 60.2955 and 60.2956.
|  | viii. For each performance test conducted during the reporting period, if any performance test is conducted, the process unit(s) tested, the pollutant(s) tested, and the date that such performance test was conducted. | §§ 60.2955 and 60.2956.
|  | ix. If a performance test was not conducted during the reporting period, a statement that the requirements of § 60.2934(a) or (b) were met; and | §§ 60.2955 and 60.2956.
|  | x. Documentation of periods when all qualified OSWI unit operators were unavailable for more than 12 hours but less than 2 weeks. | §§ 60.2955 and 60.2956.
5. Emission limitation or operating limit deviation report | a. By August 1 of that year for data collected during the first half of the calendar year. By February 1 of the following year for data collected during the second half of the calendar year | i. Dates and times of deviation; ii. Averaged and recorded data for those dates; iii. Duration and causes of each deviation and the corrective actions taken; | §§ 60.2957 and 60.2958. §§ 60.2957 and 60.2958. §§ 60.2957 and 60.2958.
|  | iv. Copy of operating limit monitoring data and, if any performance test was conducted that documents the emission levels, the process unit(s) tested, the pollutant(s) tested, and the date that such performance test was conducted; | §§ 60.2957 and 60.2958.
|  | v. Dates, times, and causes for monitor downtime incidents; | §§ 60.2957 and 60.2958.
|  | vi. Whether each deviation occurred during a period of startup, shutdown, or malfunction; and | §§ 60.2957 and 60.2958.
|  | vii. Dates, times and durations of any bypass of the control device. | §§ 60.2957 and 60.2958.
* * * * * * *

* * * * *

Subpart IIII—Standards of Performance for Stationary Compression Ignition Internal Combustion Engines

90. Section 60.4214 is amended by revising paragraph (d)(3) to read as follows:

§ 60.4214 What are my notification, reporting, and recordkeeping requirements if I am an owner or operator of a stationary CI internal combustion engine?

* * * * *

(d) * * *

(3) Submit the annual report to the EPA via the Compliance and Emissions Data Reporting Interface (CEDRI). (CEDRI can be accessed through the EPA's Central Data Exchange (CDX) (https://cdx.epa.gov/).) Use the appropriate electronic report in CEDRI for this subpart or an alternate electronic file format consistent with the extensible markup language (XML) schema listed on the CEDRI Web site (http://www.epa.gov/ttn/chief/cedri/index.html). If the reporting form specific to this subpart is not available in CEDRI at the time that the report is due, submit the report to the Administrator at the appropriate address listed in § 60.4. Begin submitting reports via CEDRI no later than 90 days after the form becomes available in CEDRI. The report must be submitted by the deadline specified in this subpart, regardless of the method in which the report is submitted.

Subpart JJJJ—Standards of Performance for Stationary Spark Ignition Internal Combustion Engines

91. Amend § 60.4245 by revising paragraph (d) and paragraph (e)(3) to read as follows:

§ 60.4245 What are my notification, reporting, and recordkeeping requirements if I am an owner or operator of a stationary SI internal combustion engine?

* * * * *

(d) Owners and operators of stationary SI ICE that are subject to performance testing must submit, following the procedure specified in § 60.8(j), a report of the results of each performance test conducted following the procedure specified in § 60.4244 within 60 days after the test has been completed.

(e) * * *

(3) Submit the annual report to the EPA via the Compliance and Emissions Data Reporting Interface (CEDRI). (CEDRI can be accessed through the EPA's Central Data Exchange (CDX) (https://cdx.epa.gov/).) Use the appropriate electronic report in CEDRI for this subpart or an alternate electronic file format consistent with the extensible markup language (XML) schema listed on the CEDRI Web site (http://www.epa.gov/ttn/chief/cedri/index.html). If the reporting form specific to this subpart is not available in CEDRI at the time that the report is due, submit the report to the Administrator at the appropriate address listed in § 60.4. Begin submitting reports via CEDRI no later than 90 days after the form becomes available in CEDRI. The report must be submitted by the deadline specified in this subpart, regardless of the method in which the report is submitted.

Subpart KKKK—Standards of Performance for Stationary Combustion Turbines

92. Amend § 60.4375 by revising paragraph (b) to read as follows:

§ 60.4375 What reports must I submit?

* * * * *

(b) For each affected unit that performs annual performance tests in accordance with § 60.4340(a), you must submit, following the procedure specified in § 60.8(j), a report of the results of each performance test before the close of business on the 60th day following the completion of the performance test.

93. Section 60.4395 is revised to read as follows:

§ 60.4395 When must I submit my reports?

All reports required under § 60.7(c) must be submitted electronically by the 30th day following the end of each 6-month period.

Subpart LLLL—Standards of Performance for New Sewage Sludge Incineration Units

94. Section 60.4785 is amended by revising paragraph (c) introductory text and adding paragraph (c)(9) to read as follows:

§ 60.4785 Who implements and enforces this subpart?

* * * * *

(c) The authorities that will not be delegated to state, local, or tribal agencies are specified in paragraphs (c)(1) through (c)(9) of this section.

* * * * *

(9) Approval of an alternative to any electronic reporting to the EPA required by this subpart.

95. Section 60.4910 is amended by revising the introductory paragraph text to read as follows:

§ 60.4910 What records must I keep?

You must maintain the items (as applicable) specified in paragraphs (a) through (n) of this section for a period of at least 5 years. All records must be available on site in either electronic format (that can be printed upon request) or paper copy format.

* * * * *

96. Section 60.4915 is amended by:

a. Revising paragraph (c) introductory text;

b. Revising paragraphs (c)(4) and (c)(5);

c. Revising paragraph (d);

d. Revising paragraph (d)(4) introductory text;

e. Revising paragraph (d)(8);

f. Revising paragraph (e)(2);

g. Revising paragraph (e)(3)(vii);

h. Revising paragraph (e)(4)(vii);

i. Revising paragraphs (i)(1) and (i)(2);

j. Adding paragraph (i)(3).

The revisions and addition read as follows:

§ 60.4915 What reports must I submit?

* * * * *

(c) Initial compliance report. You must submit, following the procedure specified in paragraph (i)(1) of this section, an initial compliance report containing the information listed in paragraphs (c)(1) through (c)(8) of this section no later than 60 days following the initial performance test.

* * * * *

(4) For the initial performance test conducted using the test methods specified in Table 1 or 2 of this subpart, the process unit(s) tested, the pollutant(s) tested, and the date that the initial performance test was conducted. Submit the initial performance test results, following the procedure specified in paragraph (i)(2) of this section, no later than the date that you submit the initial compliance report.

(5) If an initial performance evaluation of a continuous monitoring system (CMS) was conducted, the process unit where the CMS is installed, the parameter measured by the CMS, and the date that the performance evaluation is conducted. Submit the initial performance evaluation results, following the procedure specified in paragraph (i)(3) of this section, no later than the date that you submit the initial compliance report.

* * * * *

(d) Annual compliance report. You must submit, following the procedure specified in paragraph (i)(1) of this section, an annual compliance report that includes the items listed in paragraphs (d)(1) through (d)(16) of this section for the reporting period specified in paragraph (d)(3) of this section. You must submit your first annual compliance report no later than 12 months following the submission of the initial compliance report required by paragraph (c) of this section. You must submit subsequent annual compliance reports no more than 12 months following the previous annual compliance report. (You may be required to submit these reports (or additional compliance information) more frequently by the title V operating permit required in § 60.4920.)

* * * * *

(4) If a performance test was conducted during the reporting period, the process unit(s) tested, the pollutant(s) tested, and the date that such performance test was conducted. Submit, following the procedure specified in paragraph (i)(2) of this section, the performance test report no later than the date that you submit the annual report.

* * * * *

(8) If a performance evaluation of a continuous monitoring system (CMS) was conducted, the process unit where the CMS is installed, the parameter measured by the CMS, and the date that the performance evaluation is conducted. Submit, following the procedure specified in paragraph (i)(3) of this section, the results of that performance evaluation no later than the date that you submit the annual compliance report. If new operating limits were established during the performance evaluation, include your calculations for establishing those operating limits.

* * * * *

(e) * * *

(2) The deviation report must be submitted, following the procedure specified in paragraph (i)(1) of this section, by August 1 of that year for data collected during the first half of the calendar year (January 1 to June 30), and by February 1 of the following year for data collected during the second half of the calendar year (July 1 to December 31).

(3) * * *

(vii) A copy of the operating parameter monitoring data during each deviation and for any test report that documents the emission levels, the process unit(s) tested, the pollutant(s) tested and the date that the performance test was conducted. Submit the performance test report, following the procedure specified in paragraph (i)(2) of this section, no later than the date that you submit the deviation report.

* * * * *

(4) * * *

(vii) For any performance test report that showed a deviation from the emission limits or standard, the process unit(s) tested, the pollutant(s) tested and the date that the performance test was conducted. Submit the performance test report, following the procedure specified in paragraph (i)(2) of this section, no later than the date that you submit the deviation report.

* * * * *

(i) * * *

(1) Submit initial, annual, and deviation reports electronically on or before the submittal due dates to the EPA via the Compliance and Emissions Data Reporting Interface (CEDRI). (CEDRI can be accessed through the EPA's Central Data Exchange (CDX) (https://cdx.epa.gov/).) Use the appropriate electronic report in CEDRI for this subpart or an alternate electronic file format consistent with the extensible markup language (XML) schema listed on the CEDRI Web site (http://www.epa.gov/ttn/chief/cedri/index.html). If the reporting form specific to this subpart is not available in CEDRI at the time that the report is due, submit the report to the Administrator at the appropriate address listed in § 60.4. Begin submitting reports via CEDRI no later than 90 days after the form becomes available in CEDRI. The reports must be submitted by the deadlines specified in this subpart, regardless of the method in which the reports are submitted.

(2) Within 60 days after the date of completing each performance test (see § 60.8) conducted to demonstrate compliance with this subpart, you must submit the results of the performance test following the procedure specified in either paragraph (i)(2)(i) or (i)(2)(ii) of this section.

(i) For data collected using test methods supported by the EPA's Electronic Reporting Tool (ERT) as listed on the EPA's ERT Web site (http://www.epa.gov/ttn/chief/ert/index.html) at the time of the test, you must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. If you claim that some of the performance test information being submitted is confidential business information (CBI), you must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(ii) For data collected using test methods that are not supported by the EPA's ERT as listed on the EPA's ERT Web site at the time of the test, you must submit the results of the performance test to the Administrator at the appropriate address listed in § 60.4.

(3) Within 60 days after the date of completing each CEMS performance evaluation, you must submit the results of the performance evaluation following the procedure specified in either paragraph (i)(3)(i) or (i)(3)(ii) of this section.

(i) For performance evaluations of continuous monitoring systems measuring relative accuracy test audit (RATA) pollutants that are supported by the EPA's ERT as listed on the EPA's ERT Web site (http://www.epa.gov/ttn/chief/ert/index.html) at the time of the test, you must submit the results of the performance evaluation to the EPA via the CEDRI. (CEDRI can be accessed through the EPA's CDX (https://cdx.epa.gov/).) Performance evaluation data must be submitted in a file format generated through the use of the EPA's ERT or an alternate electronic file format consistent with the XML schema listed on the EPA's ERT Web site. If you claim that some of the performance evaluation information being submitted is CBI, you must submit a complete file generated through the use of the EPA's ERT or an alternate electronic file consistent with the XML schema listed on the EPA's ERT Web site, including information claimed to be CBI on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(ii) For any performance evaluations of continuous monitoring systems measuring RATA pollutants that are not supported by the EPA's ERT as listed on the EPA's ERT Web site at the time of the test, you must submit the results of the performance evaluation to the Administrator at the appropriate address listed in § 60.4.

* * * * *

97. Table 5 to Subpart LLLL is amended by:

a. Revising the “Initial compliance report” entry;

b. Revising the “Annual compliance report” entry; and

c. Revising the “Deviation report (deviations from emission limits, emission standards, or operating limits, as specified in § 60.4915(e)(1))” entry.

The revisions read as follows:

Table 5 to Subpart LLLL of Part 60—Summary of Reporting Requirements for New Sewage Sludge Incineration Units ᵃ
Report | Due date | Contents | Reference
* * * * * * *
Initial compliance report | No later than 60 days following the initial performance test | 1. Company name and address 2. Statement by a responsible official, with that official's name, title, and signature, certifying the accuracy of the content of the report | § 60.4915(c).
|  | 3. Date of report
|  | 4. For the initial performance test conducted, the process unit(s) tested, the pollutant(s) tested, and the date that such performance test was conducted
|  | 5. For the initial performance evaluation of your CMS,ᵇ the process unit where the CMS is installed, the pollutant the CMS measures, and the date that the performance evaluation is conducted
|  | 6. The values for the site-specific operating limits and the calculations and methods, as applicable, used to establish each operating limit
|  | 7. Documentation of installation of bag leak detection system for fabric filter
|  | 8. Results of initial air pollution control device inspection, including a description of repairs
Annual compliance report | No later than 12 months following the submission of the initial compliance report; subsequent reports are to be submitted no more than 12 months following the previous report | 1. Company name and address 2. Statement and signature by responsible official 3. Date and beginning and ending dates of report 4. For each performance test conducted during the reporting period, if any performance test is conducted, the process unit(s) tested, the pollutant(s) tested, and the date that such performance test was conducted. Include any new operating limits and associated calculations and the type of activated carbon used, if applicable | § 60.4915(d).
|  | 5. For each pollutant and operating parameter recorded using a CMS, the highest recorded 3-hour average and the lowest recorded 3-hour average, as applicable
|  | 6. If no deviations from emission limits, emission standards, or operating limits occurred, a statement that no deviations occurred
|  | 7. If a fabric filter is used, the date, time, and duration of alarms
|  | 8. For each performance evaluation conducted during the reporting period, the process unit where the CMS is installed, the parameter measured by the CMS, and the date that the performance evaluation was conducted. Include any new operating limits and their associated calculations
|  | 9. If you met the requirements of § 60.4885(a)(3) and did not conduct a performance test, include the dates of the last three performance tests, a comparison to the 50 percent emission limit threshold of the emission level achieved in the last three performance tests, and a statement as to whether there have been any process changes
|  | 10. Documentation of periods when all qualified SSI unit operators were unavailable for more than 8 hours but less than 2 weeks
|  | 11. Results of annual pollutions control device inspections, including description of repairs
|  | 12. If there were no periods during which your CMSs had malfunctions, a statement that there were no periods during which your CMSs had malfunctions
|  | 13. If there were no periods during which your CMSs were out of control, a statement that there were no periods during which your CMSs were out of control
|  | 14. If there were no operator training deviations, a statement that there were no such deviations
|  | 15. Information on monitoring plan revisions, including a copy of any revised monitoring plan
Deviation report (deviations from emission limits, emission standards, or operating limits, as specified in § 60.4915(e)(1)) | By August 1 of a calendar year for data collected during the first half of the calendar year; by February 1 of a calendar year for data collected during the second half of the calendar year | If using a CMS: 1. Company name and address 2. Statement by a responsible official 3. The calendar dates and times your unit deviated from the emission limits or operating limits 4. The averaged and recorded data for those dates 5. Duration and cause of each deviation 6. Dates, times, and causes for monitor downtime incidents | § 60.4915(e).
|  | 7. A copy of the operating parameter monitoring data during each deviation, and, for any test report that documents the emission levels, the process unit(s) tested, the pollutant(s) tested, and the date that such performance test was conducted
|  | 8. For periods of CMS malfunction or when a CMS was out of control, you must include the information specified in § 60.4915(e)(3)(viii)
|  | If not using a CMS: 1. Company name and address
|  | 2. Statement by a responsible official
|  | 3. The total operating time of each affected SSI
|  | 4. The calendar dates and times your unit deviated from the emission limits, emission standard, or operating limits
|  | 5. The averaged and recorded data for those dates
|  | 6. Duration and cause of each deviation
|  | 7. For each performance test that showed a deviation from emission limits or standards conducted during the reporting period, the process unit(s) tested, the pollutant(s) tested, and the date that such performance test was conducted
|  | 8. A brief description of any malfunction, a description of actions taken during the malfunction to minimize emissions, and corrective action taken
* * * * * * *

* * * * *

Subpart OOOO—Standards of Performance for Crude Oil and Natural Gas Production, Transmission and Distribution

98. Section 60.5420 is amended by:

a. Revising paragraph (b) introductory text;

b. Revising paragraph (b)(7);

c. Adding paragraph (b)(9); and

d. Revising paragraph (c) introductory text.

The revisions and addition read as follows:

§ 60.5420 What are my notification, reporting, and recordkeeping requirements?

* * * * *

(b) Reporting requirements. You must submit annual reports containing the information specified in paragraphs (b)(1) through (6) of this section and performance test reports as specified in paragraph (b)(7) or (8) of this section. You must submit annual reports following the procedure specified in paragraph (b)(9). The initial annual report is due no later than 90 days after the end of the initial compliance period as determined according to § 60.5410. Subsequent annual reports are due no later than the same date each year as the initial annual report. If you own or operate more than one affected facility, you may submit one report for multiple affected facilities provided the report contains all of the information required as specified in paragraphs (b)(1) through (6) of this section. Annual reports may coincide with title V reports as long as all the required elements of the annual report are included. You may arrange with the Administrator a common schedule on which reports required by this part may be submitted as long as the schedule does not extend the reporting period.

* * * * *

(7) Within 60 days after the date of completing each performance test (see § 60.8) required by this subpart, except testing conducted by the manufacturer as specified in § 60.5413(d), you must submit the results of the performance test following the procedure specified in either paragraph (b)(7)(i) or (b)(7)(ii) of this section.

(i) For data collected using test methods supported by the EPA's Electronic Reporting Tool (ERT) as listed on the EPA's ERT Web site (http://www.epa.gov/ttn/chief/ert/index.html) at the time of the test, you must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. If you claim that some of the performance test information being submitted is confidential business information (CBI), you must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

(ii) For data collected using test methods that are not supported by the EPA's ERT as listed on the EPA's ERT Web site at the time of the test, you must submit the results of the performance test to the Administrator at the appropriate address listed in § 60.4.

* * * * *

(9) If you are required to submit reports in the manner specified in this paragraph, you must submit reports to the EPA via the CEDRI. (CEDRI can be accessed through the EPA's CDX (https://cdx.epa.gov/).) You must use the appropriate electronic report in CEDRI for this subpart or an alternate electronic file format consistent with the extensible markup language (XML) schema listed on the CEDRI Web site (http://www.epa.gov/ttn/chief/cedri/index.html). If the reporting form specific to this subpart is not available in CEDRI at the time that the report is due, you must submit the report to the Administrator at the appropriate address listed in § 60.4. You must begin submitting reports via CEDRI no later than 90 days after the form becomes available in CEDRI. The reports must be submitted by the deadlines specified in this subpart, regardless of the method in which the reports are submitted.

(c) Recordkeeping requirements. You must maintain the records identified as specified in § 60.7(f) and in paragraphs (c)(1) through (13) of this section. All records required by this subpart must be maintained either onsite or at the nearest local field office for at least 5 years. Any records required to be maintained by this subpart that are submitted electronically via the EPA's CDX may be maintained in electronic format.

* * * * *

99. Section 60.5422 is amended by revising paragraph (a) to read as follows:

§ 60.5422 What are my additional reporting requirements for my affected facility subject to VOC requirements for onshore natural gas processing plants?

(a) You must comply with the requirements of paragraphs (b) and (c) of this section in addition to the requirements of § 60.487a(a), (b), (c)(2)(i) through (iv), and (c)(2)(vii) through (viii). As required by § 60.487a(a), you must submit semiannual reports to the EPA via the Compliance and Emissions Data Reporting Interface (CEDRI). (CEDRI can be accessed through the EPA's Central Data Exchange (CDX) (https://cdx.epa.gov/).) Use the appropriate electronic report in CEDRI for this subpart or an alternate electronic file format consistent with the extensible markup language (XML) schema listed on the CEDRI Web site (http://www.epa.gov/ttn/chief/cedri/index.html). If the reporting form specific to this subpart is not available in CEDRI at the time that the report is due, submit the report to the Administrator at the appropriate address listed in § 60.4. You must begin submitting reports via CEDRI no later than 90 days after the form becomes available in CEDRI. The report must be submitted by the deadline specified in this subpart, regardless of the method in which the report is submitted.

* * * * *

100. Section 60.5423 is amended by revising paragraph (b) introductory text and paragraph (e) to read as follows:

§ 60.5423 What additional recordkeeping and reporting requirements apply to my sweetening unit affected facilities at onshore natural gas processing plants?

* * * * *

(b) You must submit a report of excess emissions with your annual report if you had excess emissions during the reporting period. The excess emissions report must be submitted to the EPA via the Compliance and Emissions Data Reporting Interface (CEDRI). (CEDRI can be accessed through the EPA's Central Data Exchange (CDX) (https://cdx.epa.gov/).) You must use the appropriate electronic report in CEDRI for this subpart or an alternate electronic file format consistent with the extensible markup language (XML) schema listed on the CEDRI Web site (http://www.epa.gov/ttn/chief/cedri/index.html). If the reporting form specific to this subpart is not available in CEDRI at the time that the report is due, you must submit the report to the Administrator at the appropriate address listed in § 60.4. You must begin submitting reports via CEDRI no later than 90 days after the form becomes available in CEDRI. The report must be submitted by the deadline specified in this subpart, regardless of the method in which the report is submitted. For the purpose of these reports, excess emissions are defined as:

* * * * *

(e) The requirements of paragraph (b) of this section remain in force until and unless the EPA, in delegating enforcement authority to a state under section 111(c) of the Act, approves reporting requirements or an alternative means of compliance surveillance adopted by such state. In that event, affected sources within the state will be relieved of obligation to comply with paragraph (b) of this section, provided that they comply with the requirements established by the state. Electronic reporting to the EPA cannot be waived, and as such, the provisions of this paragraph do not relieve owners or operators of affected facilities of the requirement to submit the electronic reports required in this section to the EPA.

[FR Doc. 2015-05406 Filed 3-19-15; 8:45 am]

BILLING CODE 6560-50-P